DEPARTMENT OF HOUSING AND URBAN DEVELOPMENT

[Docket No. FR-4901-N-39]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Burruss, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Heather Ranson, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AIR FORCE: Mr. Albert F. Lowas, Jr., Air Force Real Property Agency, 1700 North Moore St., Suite 2300, Arlington, VA 22209-2802; (703) 696-5501; COAST GUARD: Commandant, United States Coast Guard, ATTN: Teresa Sheinberg, 2100 Second St., SW., Rm 6109, Washington, DC 20593-0001; (202) 267-6142; GSA: Mr. Brian K. Polly, Assistant Commissioner, General Services Administration, Office of Property Disposal, 18th and F Streets, NW., Washington, DC 20405; (202) 501-0084; INTERIOR: Ms. Linda Tribby, Acquisition & Property Management, Department of the Interior, 1849 C Street, NW., MS5512, Washington, DC 20240; (202) 219-0728; NAVY: Mr. Charles C. Cocks, Director, Department of the Navy, Real Estate Policy Division, Naval Facilities Engineering Command, Washington Navy Yard, 1322 Patterson Ave., SE., Suite 1000, Washington, DC 20374-5065; (202) 685-9200; (These are not toll-free numbers).

Dated: September 16, 2004.
Mark R. Johnston,
Director, Office of Special Needs Assistance Programs.

TITLE V, FEDERAL SURPLUS PROPERTY PROGRAM FEDERAL REGISTER REPORT FOR 9/24/04

Suitable/Available Properties

Buildings (by State)

Alaska

Bldg. 7525

Elmendorf AFB

Elmendorf AFB AK 99506-

Landholding Agency: Air Force

Property Number: 18200230009

Status: Unutilized

Comment: 26,226 sq. ft., need rehab, possible asbestos/lead paint, most recent use—dormitory, off-site use only

California

Bldg. YLL-172

Yosemite National Park

Hemlock Bldg.

Yosemite Co: Mariposa, CA 95389-

Landholding Agency: Interior

Property Number: 61200420012

Status: Unutilized

Comment: 7020 sq. ft. motel, off-site use only

Bldg. YLL-174

Yosemite National Park

Alder Motel

Yosemite Co: Mariposa CA 95389-

Landholding Agency: Interior

Property Number: 61200420013

Status: Unutilized

Comment: 7020 sq. ft. motel, off-site use only

Bldg. 180

Yosemite National Park

Birch Motel

Yosemite Co: Mariposa CA 95389-

Landholding Agency: Interior

Property Number: 61200420014

Status: Unutilized

Comment: 3010 sq. ft. motel, off-site use only

Colorado

Strategic Range Tng Complex

Industrial Park

LaJunta Co: Otero CO 81050-9501

Landholding Agency: GSA

Property Number: 54200330013

Status: Surplus

Comment: main bldg. with 6 storage bldgs.

GSA Number: 7-D-CO-0648

Georgia

West Parcel

Boyett Village Family Housing Complex

Maple Avenue

Albany GA

Landholding Agency: GSA

Property Number: 54200410004

Status: Surplus

Comment: 300 residential units & support facilities, possible lead based paint, utility upgrade required by local utility commission (estimates range from $1.6m to $2.7 million for entire Boyett Village)

GSA Number: 4-N-GA-581B

Hawaii

Bldg. 849

Bellows AFS

Bellows AFS HI

Landholding Agency: Air Force

Property Number: 18200330008

Status: Unutilized

Comment: 462 sq. ft., concrete storage facility

Illinois

Soc. Sec. Admin. Ofc.

525 18th Street

Rock Island IL

Landholding Agency: GSA

Property Number: 54200310017

Status: Surplus

Comment: 5800 sq. ft., most recent use—office

GSA Number: 1-G-IL-730

Indiana

Paulsen U.S. Army Reserve Ctr

800 East Crystal

N. Judson Co: Starke IN 46366-

Landholding Agency: GSA

Property Number: 54200330001

Status: Surplus

Comment: 13,114 sq. ft., presence of asbestos/lead paint, most recent use—office/training/vehicle maint. and repair

GSA Number: 1-D-IN-597

Iowa

Fed Bldg/Courthouse

350 W 6th Street

Dubuque IA 52001-

Landholding Agency: GSA

Property Number: 54200330014

Status: Excess

Comment: 45,729 sq. ft., needs repair, portion occupied, most recent use—office, historic covenants

GSA Number: 7-G-IA-0495-1

Maryland

SSA Building

6400 Old Branch Avenue

Temple Hills Co: Prince Georges MD 20748-

Landholding Agency: GSA

Property Number: 54200420019

Status: Excess

Comment: 7232 sq. ft. office space in an industrial area

GSA Number: MD(R11)1102

Minnesota

GAP Filler Radar Site

St. Paul Co: Rice MN 55101-

Landholding Agency: GSA

Property Number: 54199910009

Status: Excess

Comment: 1266 sq. ft., concrete block, presence of asbestos/lead paint, most recent use—storage, zoning requirements, preparations for a Phase I study underway, possible underground storage tank

GSA Number: 1-GR(1)-MN-475

Lakes Project Office

307 Main Street East

Remer Co: Cass MN

Landholding Agency: GSA

Property Number: 54200410015

Status: Surplus

Comment: Office bldg/oil shed/maintenance garage, minor water damage

GSA Number: 5-D-MN-548-A

Missouri

Bldgs. 90A/B, 91A/B, 92A/B

Jefferson Barracks Housing

St. Louis MO 63125-

Landholding Agency: Air Force

Property Number: 18200220002

Status: Excess

Comment: 6450 sq. ft., needs repair, includes 2 acres

New Jersey

Parcels 3, 4, 5

Former Coast Guard Station

Beach Haven Co: Ocean NJ 08008-

Landholding Agency: GSA

Property Number: 54200420005

Status: Excess

Comment: 11,644 sq. ft. bldg. w/1.4 acres, within floodplain, environmental considerations, legal restrictions

GSA Number: 1-U-NJ-499B

Social Security Bldg.

686 Nye Avenue

Irvington Co: Essex NJ 07111-2315

Landholding Agency: GSA

Property Number: 54200430012

Status: Excess

Comment: 7757 sq. ft., most recent use—office

GSA Number: 1-G-NJ-652

Social Security Bldg.

22 Morris Street

Hackensack Co: Bergen NJ 07660-1546

Landholding Agency: GSA

Property Number: 54200430013

Status: Excess

Comment: 14,944 sq. ft., most recent use—office

GSA Number: 1-G-NJ-651

New Mexico

Carlsbad Federal Building

114 South Halagueno

Carlsbad Co: Eddy NM 88220-5738

Landholding Agency: GSA

Property Number: 54200430020

Status: Surplus

Comment: 12,515 sq. ft., presence of asbestos/lead paint, will be vacant by December 2006

GSA Number: 7-G-NM-0570

New York

Lockport Comm. Facility

Shawnee Road

Lockport Co: Niagara NY

Landholding Agency: Air Force

Property Number: 18200040004

Status: Excess

Comment: 2 concrete block bldgs., (415 & 2929 sq. ft.) on 7.68 acres

Bldg. 240

Rome Lab

Rome Co: Oneida NY 13441-

Landholding Agency: Air Force

Property Number: 18200340023

Status: Unutilized

Comment: 39108 sq. ft., presence of asbestos, most recent use—Electronic Research Lab

Bldg. 247

Rome Lab

Rome Co: Oneida NY 13441-

Landholding Agency: Air Force

Property Number: 18200340024

Status: Unutilized

Comment: 13199 sq. ft., presence of asbestos, most recent use—Electronic Research Lab

Bldg. 248

Rome Lab

Rome Co: Oneida NY 13441-

Landholding Agency: Air Force

Property Number: 18200340025

Status: Unutilized

Comment: 4000 sq. ft., presence of asbestos, most recent use—Electronic Research Lab

Bldg. 302

Rome Lab

Rome Co: Oneida NY 13441-

Landholding Agency: Air Force

Property Number: 18200340026

Status: Unutilized

Comment: 10288 sq. ft., presence of asbestos, most recent use—communications facility

Social Security Bldg.

63 North Street

Monticello Co: Sullivan NY 12701-1124

Landholding Agency: GSA

Property Number: 54200430014

Status: Excess

Comment: 5659 sq. ft., most recent use—office

GSA Number: 1-G-NY-915

South Carolina

24 Bldgs.

Hunley Park/Charleston AFB

Idaho Ave., Unit Type 3S

N. Charleston Co: SC 29404-4827

Landholding Agency: Air Force

Property Number: 18200430011

Status: Excess

Comment: 1624 sq. ft., needs extensive repair, presence of asbestos/lead paint, most recent use—residential, off-site use only

6 Bldgs.

Hunley Park/Charleston AFB

N. Charleston Co: SC 29404-

Location: 3510, 3514, 3517, 3528, 3533, 3538

Landholding Agency: Air Force

Property Number: 18200430012

Status: Excess

Comment: 1684 sq. ft., needs extensive repair, presence of asbestos/lead paint, most recent use—residential, off-site use only

Bldg. 3601

Hunley Park/Charleston AFB

N. Charleston Co: SC 29404-

Landholding Agency: Air Force

Property Number: 18200430013

Status: Excess

Comment: 1902 sq. ft., needs extensive repair, presence of asbestos/lead paint, most recent use—residential, off-site use only

5 Bldgs.

Hunley Park/Charleston AFB

N. Charleston Co: SC 29404-

Location: 3524, 3603, 3605, 3607, 3608

Landholding Agency: Air Force

Property Number: 18200430014

Status: Excess

Comment: 1788 sq. ft., needs extensive repair, presence of asbestos/lead paint, most recent use—residential, off-site use only

4 Bldgs.

Hunley Park/Charleston AFB

N. Charleston Co: SC 29404-

Location: 3009A/B, 3013A/B, 3202A/B, 3214A/B

Landholding Agency: Air Force

Property Number: 18200430015

Status: Excess

Comment: 2346 sq. ft., needs extensive repair, presence of asbestos/lead paint, most recent use—residential, off-site use only

3 Bldgs.

Hunley Park/Charleston AFB

N. Charleston Co: SC 29404-

Location: 3302A/B, 3418A/B, 3424A/B

Landholding Agency: Air Force

Property Number: 18200430016

Status: Excess

Comment: 2470 sq. ft., needs extensive repair, presence of asbestos/lead paint, most recent use—residential, off-site use only

Bldg. 3207A/B

Hunley Park/Charleston AFB

N. Charleston Co: SC 29404-

Landholding Agency: Air Force

Property Number: 18200430017

Status: Excess

Comment: 2688 sq. ft., needs extensive repair, presence of asbestos/lead paint, most recent use—residential, off-site use only

11 Bldgs.

Hunley Park/Charleston AFB

Unit Type 3E

N. Charleston Co: SC 29404-

Landholding Agency: Air Force

Property Number: 18200430018

Status: Excess

Comment: 2688 sq. ft., needs extensive repair, presence of asbestos/lead paint, most recent use—residential, off-site use only

24 Bldgs.

Hunley Park/Charleston AFB

Unit Type 3J

N. Charleston Co: SC 29404-

Landholding Agency: Air Force

Property Number: 18200430019

Status: Excess

Comment: 2787 sq ft., needs extensive repair, presence of asbestos/lead paint, most recent use—residential, off-site use only

Bldg. 3209A/B

Hunley Park/Charleston AFB

N. Charleston Co: SC 29404-

Landholding Agency: Air Force

Property Number: 18200430020

Status: Excess

Comment: 2944 sq. ft., needs extensive repair, presence of asbestos/lead paint, most recent use—residential, off-site use only

Bldgs. 3107A/B, 3205A/B

Hunley Park/Charleston AFB

N. Charleston Co: SC 29404-

Landholding Agency: Air Force

Property Number: 18200430021

Status: Excess

Comment: 2944 sq. ft., needs extensive repair, presence of asbestos/lead paint, most recent use—residential, off-site use only

5 Bldgs.

Hunley Park/Charleston AFB

Unit Type 4J

N. Charleston Co: SC 29404-

Landholding Agency: Air Force

Property Number: 18200430022

Status: Excess

Comment: 3423 sq. ft., needs extensive repair, presence of asbestos/lead paint, most recent use—residential, off-site use only

7 Bldgs.

Charleston AFB

Floor Plan 1

N. Charleston Co: SC 29404-4827

Landholding Agency: Air Force

Property Number: 18200430023

Status: Excess

Comment: 2135 sq. ft., presence of asbestos/lead paint, most recent use—residential, off-site use only

11 Bldgs.

Charleston AFB

Floor Plan 4AR

N. Charleston Co: SC 29404-

Landholding Agency: Air Force

Property Number: 18200430024

Status: Excess

Comment: 2652 sq. ft., presence of asbestos/lead paint, most recent use—residential, off-site use only

4 Bldgs.

Charleston AFB

N. Charleston Co: SC 29404-

Location: 2314A/B, 2327A/B, 2339A/B, 2397A/B

Landholding Agency: Air Force

Property Number: 18200430025

Status: Excess

Comment: 2722 sq. ft., presence of asbestos/lead paint, most recent use—residential, off-site use only

5 Bldgs.

Charleston AFB

N. Charleston Co: SC 29404-

Location: 2311A/B, 2322A/B, 2329A/B, 2385A/B, 2399A/B

Landholding Agency: Air Force

Property Number: 18200430026

Status: Excess

Comment: 2642 sq. ft., presence of asbestos/lead paint, most recent use—residential, off-site use only

4 Bldgs.

Charleston AFB

N. Charleston Co: SC 29404-

Location: 2315A/B, 2323A/B, 2330A/B, 2387A/B

Landholding Agency: Air Force

Property Number: 18200430027

Status: Excess

Comment: 2756 sq. ft., presence of asbestos/lead paint, most recent use—residential, off-site use only

3 Bldgs.

Charleston AFB

N. Charleston Co: SC 29404-

Location: 2321A/B, 2326A/B, 2336A/B

Landholding Agency: Air Force

Property Number: 18200430028

Status: Excess

Comment: 2766 sq. ft., presence of asbestos/lead paint, most recent use—residential, off-site use only

Bldg. 2331A /B

Charleston AFB

N. Charleston Co: SC 29494-

Landholding Agency: Air Force

Property Number: 18200430029

Status: Excess

Comment: 2803 sq. ft., presence of asbestos/lead paint, most recent use—residential, off-site use only

Bldg. 2341A/B

Charleston AFB

N. Charleston Co: SC 29404-

Landholding Agency: Air Force

Property Number: 18200430030

Status: Excess

Comment: 2715 sq. ft., presence of asbestos/lead paint, most recent use—residential, off-site use only

6 Bldgs.

Charleston AFB

N. Charleston Co: SC 29404-

Location: 2346, 2354, 2363, 2382, 2389, 2396

Landholding Agency: Air Force

Property Number: 18200430031

Status: Excess

Comment: 1394 sq. ft., presence of asbestos/lead paint, most recent use—residential, off-site use only

15 Bldgs.

Charleston AFB

Floor Plan 6A

N. Charleston Co: SC 29404-

Landholding Agency: Air Force

Property Number: 18200430032

Status: Excess

Comment: 1378 sq. ft., presence of asbestos/lead paint, most recent use—residential, off-site use only

12 Bldgs.

Charleston AFB

Floor Plan 6B

N. Charleston Co: SC 29404-

Landholding Agency: Air Force

Property Number: 18200430033

Status: Excess

Comment: 1387 sq. ft., presence of asbestos/lead paint, most recent use—residential, off-site use only

13 Bldgs.

Charleston AFB

Floor Plan 1-1

N. Charleston Co: SC 29404-

Landholding Agency: Air Force

Property Number: 18200430034

Status: Excess

Comment: 2305 sq. ft., presence of asbestos/lead paint, most recent use—residential, off-site use only

Bldg. 2377

Charleston AFB

N. Charleston Co: SC 29404-

Landholding Agency: Air Force

Property Number: 18200430035

Status: Excess

Comment: 1662 sq. ft., presence of asbestos/lead paint, most recent use—residential, off-site use only

10 Bldgs.

Charleston AFB

Floor Plan D6

N. Charleston Co: SC 29204-

Landholding Agency: Air Force

Property Number: 18200430036

Status: Excess

Comment: 1241 sq. ft., presence of asbestos/lead paint, most recent use—residential, off-site use only

10 Bldgs.

Charleston AFB

Floor Plan D1

N. Charleston Co: SC 29404-

Landholding Agency: Air Force

Property Number: 18200430037

Status: Excess

Comment: 1250 sq. ft., presence of asbestos/lead paint, most recent use—residential, off-site use only

7 Bldgs.

Charleston AFB

Floor Plan DIV

N. Charleston Co: SC 29404-

Landholding Agency: Air Force

Property Number: 18200430038

Status: Excess

Comment: 1250 sq. ft., presence of asbestos/lead paint, most recent use—residential, off-site use only

7 Bldgs.

Charleston AFB

Floor Plan DV

N. Charleston Co: SC 29404-

Landholding Agency: Air Force

Property Number: 18200430039

Status: Excess

Comment: 1241 sq. ft., presence of asbestos/lead paint, most recent use—residential, off-site use only

7 Bldgs.

Charleston AFB

Floor Plan E6

N. Charleston Co: SC 29204-

Landholding Agency: Air Force

Property Number: 18200430040

Status: Excess

Comment: 1249 sq. ft., presence of asbestos/lead paint, most recent use—residential, off-site use only

11 Bldgs.

Charleston AFB

Floor Plan F6

N. Charleston Co: SC 29404-

Landholding Agency: Air Force

Property Number: 18200430041

Status: Excess

Comment: 1249 sq. ft., presence of asbestos/lead paint, most recent use—residential, off-site use only

11 Bldgs.

Charleston AFB

Floor Plan G6

N. Charleston Co: SC 29404-

Landholding Agency: Air Force

Property Number: 18200430042

Status: Excess

Comment: 1390 sq. ft., presence of asbestos/lead paint, most recent use—residential, off-site use only

9 Bldgs.

Charleston AFB

Floor Plan GV

N. Charleston Co: SC 29404-

Landholding Agency: Air Force

Property Number: 18200430043

Status: Excess

Comment: 1390 sq. ft., presence of asbestos/lead paint, most recent use—residential, off-site use only

8 Bldgs.

Charleston AFB

Floor Plan H6

N. Charleston Co: SC 29404-

Landholding Agency: Air Force

Property Number: 18200430044

Status: Excess

Comment: 1396 sq. ft., presence of asbestos/lead paint, most recent use—residential, off-site use only

Bldgs. 1841A/B, 1849A/B

Charleston AFB

N. Charleston Co: SC 29404-

Landholding Agency: Air Force

Property Number: 18200430045

Status: Excess

Comment: 2249 sq. ft., presence of asbestos/lead paint, most recent use—residential, off-site use only

9 Bldgs.

Charleston AFB

Floor Plan I6

N. Charleston Co: SC 29404-

Landholding Agency: Air Force

Property Number: 18200430046

Status: Excess

Comment: 1400 sq. ft., presence of asbestos/lead paint, most recent use—residential, off-site use only

7 Bldgs.

Charleston AFB

Floor Plan IV

N. Charleston Co: SC 29404-

Landholding Agency: Air Force

Property Number: 18200430047

Status: Excess

Comment: 1400 sq. ft., presence of asbestos/lead paint, most recent use—residential, off-site use only

4 Bldgs.

Charleston AFB

N. Charleston Co: SC 29404-

Location: 1846A/B, 1853A/B, 1862A/B, 2203A/B

Landholding Agency: Air Force

Property Number: 18200430048

Status: Excess

Comment: 2363 sq. ft., presence of asbestos/lead paint, most recent use—residential, off-site use only

40 Bldgs.

Charleston AFB

Floor Plan 2A

N. Charleston Co: SC 29404-

Landholding Agency: Air Force

Property Number: 18200430049

Status: Excess

Comment: 2387 sq. ft., presence of asbestos/lead paint, most recent use—residential, off-site use only

Bldg. 1765A/B

Charleston AFB

N. Charleston Co: SC 29404-

Landholding Agency: Air Force

Property Number: 18200430050

Status: Excess

Comment: 2558 sq. ft., presence of asbestos/lead paint, most recent use—residential, off-site use only

42 Bldgs.

Charleston AFB

Floor Plan 2R

N. Charleston Co: SC 29404-

Landholding Agency: Air Force

Property Number: 18200430051

Status: Excess

Comment: 2558 sq. ft., presence of asbestos/lead paint, most recent use—residential, off-site use only

Bldg. 1828A/B

Charleston AFB

N. Charleston Co: SC 29404-

Landholding Agency: Air Force

Property Number: 18200430052

Status: Excess

Comment: 2330 sq. ft., presence of asbestos/lead paint, most recent use—residential, off-site use only

3 Bldgs.

Charleston AFB

N. Charleston Co: SC 29404-

Location: 2309A/B, 2320A/B, 2335A/B

Landholding Agency: Air Force

Property Number: 18200430053

Status: Excess

Comment: 2766 sq. ft., presence of asbestos/lead paint, most recent use—residential, off-site use only

South Dakota

West Communications Annex

Ellsworth Air Force Base

Ellsworth AFB Co: Meade SD 57706-

Landholding Agency: Air Force

Property Number: 18199340051

Status: Unutilized

Comment: 2 bldgs. on 2.37 acres, remote area, lacks infrastructure, road hazardous during winter storms, most recent use—industrial storage

Tennessee

Tract 01-169

Shiloh Natl Military Park

Shiloh Co: Hardin TN 38376-

Landholding Agency: Interior

Property Number: 61200420003

Status: Excess

Comment: 1400 sq. ft., concrete block, off-site use only

Texas

Cotulla Border Station

602 N. Main Street

Cotulla Co: LaSalle TX 78014-

Landholding Agency: GSA

Property Number: 54200420008

Status: Surplus

Comment: 2190 sq. ft., cinder block, presence of asbestos/lead paint, most recent use—border patrol office, subject to existing easements

GSA Number: 7-D-CO-0648

Washington

Bldg. 88

1917 Marsh Road

Yakima WA 98901-

Landholding Agency: Interior

Property Number: 61200340007

Status: Unutilized

Comment: 1032 sq. ft., presence of asbestos/lead paint, most recent use—office, off-site use only

Tract 03-123

Cascades National Park

Stehekin Co: Chelan WA 98852-

Landholding Agency: Interior

Property Number: 61200420004

Status: Excess

Comment: 636 sq. ft., off-site use only

West Virginia

Social Security Bldg.

50 16th Street

Wheeling Co: Ohio WV 25301-

Landholding Agency: GSA

Property Number: 54200430019

Status: Excess

Comment: 4975 sq. ft., presence of asbestos, most recent use—office

GSA Number: 4-G-WV-0549

Wisconsin

SSA Office Building

203 West Court Street

Janesville WI 53545-

Landholding Agency: GSA

Property Number: 54200420009

Status: Surplus

Comment: 6278 sq. ft. w/parking, most recent use—office

GSA Number: 1-G-WI-604

Land (by State)

Alaska

White Alice Site

Tin City AK 99762-

Landholding Agency: GSA

Property Number: 54200410001

Status: Excess

Comment: 6.31 acres w/4 buildings and 2 large radar dishes, most recent use—communications, remote area

GSA Number: 9-D-AK-764

Arizona

0.44 acre

N. of Buckeye Road

Avondale Co: Maricopa AZ 85323-

Landholding Agency: Interior

Property Number: 61200410001

Status: Excess

Comment: 20 foot wide

Florida

Homestead Communications Annex

Homestead Co: Dare FL 33033-

Landholding Agency: Air Force

Property Number: 18200210015

Status: Excess

Comment: 20 acres w/concrete bldg., consist of wetlands/100 year floodplain, most recent use—high frequency regional broadcasting system

Indiana

Tracts 100 & 119-2

State Hwy 224/Rd. 50

Union Twshp Co: Huntington IN

Landholding Agency: GSA

Property Number: 54200430021

Status: Surplus

Comment: 6.65 acres and 8.68 acres, open space, no sanitary facilities, zoning restrictions

GSA Number: 1-D-IN-573-B

Tanner's Creek

Access Site

off Rt. 50

Lawrenceburg Co: IN

Landholding Agency: GSA

Property Number: 54200430022

Status: Excess

Comment: 8.45 acres, boat launch, flowage easement

GSA Number: 1-D-IN-571-C

Kansas

Parcels 2, 3, 4, 5

Portions/Milford Lake

Hwy 77

Junction City Co: Geary KS

Landholding Agency: GSA

Property Number: 54200420006

Status: Excess

Comment: 2 = 2.2 acres, 3 = 8.4 acres, 4 = 20 acres, 5 = 97.6 acres, most recent use—forestry research

GSA Number: 7-GR-KS-0497

Kentucky

Tracts 903-1, 903-2, 1200, 1201

Smithland Locks & Dam

Givens Creek Access Site

Livingston Co: KY 42801-

Landholding Agency: GSA

Property Number: 54200430010

Status: Excess

Comment: 25.75 acres, boat ramp, existing lease, frequent flooding

GSA Number: 4-D-DY-568D

Tracts 329, 336

Smithland Locks & Dam

Birdsville Access Site

Birdsville Co: Livingston KY 42801-

Landholding Agency: GSA

Property Number: 54200430011

Status: Excess

Comment: 11.54 acres, boat ramp, existing lease, periodic flooding

GSA Number : 4-D-KY-568C

Michigan

IOM Site

Chesterfield Road

Chesterfield Co: Macomb MI

Landholding Agency: GSA

Property Number: 54200340008

Status: Excess

Comment: approx. 17.4 acres w/concrete block bldg. in poor condition, most recent use—radio antenna field, narrow right-of-way

GSA Number: 1-D-MI-0603F

Nebraska

Hastings Radar Bomb Scoring

Hastings Co: Adams NE 68901-

Landholding Agency: Air Force

Property Number: 18199810027

Status: Unutilized

Comment: 11 acres

Ohio

GWEN Site #3

Township Rd. 196

Radnor Co: Delaware OH

Landholding Agency: GSA

Property Number: 54200420021

Status: Surplus

Comment: two tracts of farm land = 0.953 acre and 10.778 acres

GSA Number: 1-D-OH-825

South Dakota

S. Nike Ed. Annex Land

Ellsworth AFB

Pennington SD 57706-

Landholding Agency: Air Force

Property Number: 18200220010

Status: Unutilized

Comment: 7 acres w/five foundations from demolished bldgs. remain on site; with a road and a parking lot

Texas

Former CG LORAN Station

501 Boddeker Road

Galveston Co: TX 77553-

Landholding Agency: GSA

Property Number: 54200430015

Status: Excess

Comment: 230.84 acres w/3500 sq. ft. building, wetlands, use limitation by COE

GSA Number: 7-U-TX-0867-D

Virginia

Tract H-35-A

Chantilly Access Road

Vienna Co: VA

Landholding Agency: GSA

Property Number: 54200430016

Status: Excess

Comment: 0.331 acre, public street, any owner would be required to provide equivalent, uninterrupted alternate access

GSA Number: 11-U-VA-0001

Washington

15.1 acres

Road I8NE & Road 36NE

Coulee City Co: Grant WA 99115-

Landholding Agency: Interior

Property Number: 61200310002

Status: Excess

Comment: subject to existing easements/substation site

Suitable/Unavailable Properties

Buildings (by State)

Colorado

Bldg. 100

La Junta Strategic Range

La Junta Co: Otero CO 81050-9501

Landholding Agency: Air Force

Property Number: 18200230001

Status: Excess

Comment: 7760 sq. ft., most recent use—admin/electronic equip. maintenance

Bldg. 101

La Junta Strategic Range

La Junta Co: Otero CO 81050-9501

Landholding Agency: Air Force

Property Number: 18200230002

Status: Excess

Comment: 336 sq. ft., most recent use—storage

Bldg. 102

La Junta Strategic Range

La Junta Co: Otero CO 81050-9501

Landholding Agency: Air Force

Property Number: 18200230003

Status: Excess

Comment: 1056 sq. ft., most recent use—storage

Bldg. 103

La Junta Strategic Range

La Junta Co: Otero CO 81050-9501

Landholding Agency: Air Force

Property Number: 18200230004

Status: Excess

Comment: 784 sq. ft., most recent use—storage

Bldg. 104

La Junta Strategic Range

La Junta Co: Otero CO 81050-9501

Landholding Agency: Air Force

Property Number: 18200230005

Status: Excess

Comment: 312 sq. ft., most recent use—storage

Bldg. 106

La Junta Strategic Range

La Junta Co: Otero CO 81050-9501

Landholding Agency: Air Force

Property Number: 18200230006

Status: Excess

Comment: 100 sq. ft., most recent use—storage

Georgia

East Parcel

Boyett Village Family Housing Complex

Maple Avenue

Albany GA

Landholding Agency: GSA

Property Number: 54200410003

Status: Surplus

Comment: 119 residential units & support facilities, possible lead based paint, utility upgrade required by local utility commission (estimates range from $1.6m to$2.7 million for entire Boyett Village)

GSA Number: 4-N-GA-581B

Idaho

Bldg. 224

Mountain Home Air Force

Co: Elmore ID 83648-

Landholding Agency: Air Force

Property Number: 18199840008

Status: Unutilized

Comment: 1890 sq. ft., no plumbing facilities, possible asbestos/ lead paint, most recent use—office

Indiana

Federal Building 610 Connecticut Street

Gary IN 46402-

Landholding Agency: GSA

Property Number: 54200310011

Status: Excess

Comment: 30,478 sq. ft., needs repair, presence of asbestos, most recent use—office

GSA Number: 1-G-IN-591

Maryland

29 Bldgs.

Walter Reed Army Medical Center

Forest Glen Annex, Linden Lane

Silver Spring Co: Montgomery MD 20910-1246

Location: 24 bldgs. are in poor condition, presence of asbestos/lead paint, most recent use—hospital annex, lab, office

Landholding Agency: GSA

Property Number: 54200130012

Status: Excess

Comment: Historic Preservation Covenants will impact reuse, property will not be parcelized for disposal, high cost associated w/maintenance, estimated cost to renovate $17 million

GSA Number: 11-D-MD-558-B

Minnesota

MG Clement Trott Mem. USARC

Walker Co: Cass MN 56484-

Landholding Agency: GSA

Property Number: 54199930003

Status: Excess

Comment: 4320 sq. ft. training center and 1316 sq. ft. vehicle maintenance shop, presence of environmental conditions

GSA Number: 1-D-MN-575

Missouri

Hardesty Federal Complex

607 Hardesty Avenue

Kansas City Co: Jackson MO 64124-3032

Landholding Agency: GSA

Property Number: 54199940001

Status: Excess

Comment: 7 warehouses and support buildings (540 to 216,000 sq. ft.) on 17.47 acres, major rehab, most recent use—storage/office, utilities easement

GSA Number: 7-G-MO-637

New York

Bldg. 1225

Verona Text Annex

Verona Co: Oneida NY 13478-

Landholding Agency: Air Force

Property Number: 18200220014

Status: Unutilized

Comment: 3865 sq. ft., needs repair, presence of asbestos/lead paint, most recent use—research lab

Bldg. 1226

Verona Test Annex

Verona Co: Oneida NY 13478-

Landholding Agency: Air Force

Property Number: 18200220015

Status: Unutilized

Comment: 7500 sq. ft., most recent use—storage

Bldg. 1227

Verona Text Annex

Verona Co: Oneida NY 13478-

Landholding Agency: Air Force

Property Number: 18200220016

Status: Unutilized

Comment: 1152 sq. ft., presence of asbestos/lead paint, most recent use—power station

Bldg. 1231

Verona Test Annex

Verona Co: Oneida NY 13478-

Landholding Agency: Air Force

Property Number: 18200220017

Status: Unutilized

Comment: 3865 sq. ft., presence of asbestos/lead paint/volatile organic compounds, access requirements, most recent use—research lab

Bldg. 1233

Verona Test Annex

Verona Co: Oneida NY 13478-

Landholding Agency: Air Force

Property Number: 18200220018

Status: Unutilized

Comment: 1152 sq. ft., needs repair, presence of asbestos/lead paint/volatile organic compounds, access requirements, most recent use—power station

Bldgs. 1235, 1239

Verona Test Annex

Verona Co: Oneida NY 13478-

Landholding Agency: Air Force

Property Number: 18200220019

Status: Unutilized

Comment: 144/825 sq. ft., need repairs, presence of lead paint, most recent use—electric switch station

Bldg. 1241

Verona Test Annex

Verona Co: Oneida NY 13478-

Landholding Agency: Air Force

Property Number: 18200220020

Status: Unutilized

Comment: 159 sq. ft., presence of lead paint, most recent use—sewage pump station

Bldg. 1243

Verona Test Annex

Verona Co: Oneida NY 13478-

Landholding Agency: Air Force

Property Number: 18200220021

Status: Unutilized

Comment: 25 sq. ft., most recent use—waste treatment

Bldg. 1245

Verona Test Annex

Verona Co: Oneida NY 13478-

Landholding Agency: Air Force

Property Number: 18200220022

Status: Unutilized

Comment: 3835 sq. ft., needs repair, presence of asbestos/lead paint, most recent use—research lab

Bldg. 1247

Verona Test Annex

Verona Co: Oneida NY 13478-

Landholding Agency: Air Force

Property Number: 18200220023

Status: Unutilized

Comment: 576 sq. ft., needs repair, presence of asbestos/lead paint, most recent use—power station

Bldg. 1250 + land

Verona Test Annex

Verona Co: Oneida NY 13478-

Landholding Agency: Air Force

Property Number: 18200220024

Status: Unutilized

Comment: 11,766 sq. ft. offices/lab with 495 acres, presence of asbestos/lead paint/wetlands

Bldg. 1253

Verona Test Annex

Verona Co: Oneida NY 13478-

Landholding Agency: Air Force

Property Number: 18200220025

Status: Unutilized

Comment: 3835 sq. ft., needs repair, presence of asbestos/lead paint/volatile organic compounds, access requirements, most recent use—research lab

Bldg. 1255

Verona Test Annex

Verona Co: Oneida NY 13478-

Landholding Agency: Air Force

Property Number: 18200220026

Status: Unutilized

Comment: 576 sq. ft., needs repair, presence of lead paint/volatile organic compounds, access requirement, most recent use—power station

Bldg. 1261

Verona Test Annex

Verona Co: Oneida NY 13478-

Landholding Agency: Air Force

Property Number: 18200220027

Status: Unutilized

Comment: 3835 sq. ft., needs repair, presence of asbestos/lead paint, most recent use—research lab

Bldg. 1263

Verona Test Annex

Verona Co: Oneida NY 13478-

Landholding Agency: Air Force

Property Number: 18200220028

Status: Unutilized

Comment: 576 sq. ft. needs repair, presence of lead paint, most recent use—power station

Bldgs. 1266, 1269

Verona Test Annex

Verona Co: Oneida NY 13478-

Landholding Agency: Air Force

Property Number: 18200220029

Status: Unutilized

Comment: 3730/3865 sq. ft., need repairs, presence of asbestos/lead paint, most recent use—research lab

Bldg. 1271

Verona Test Annex

Verona Co: Oneida NY 13478-

Landholding Agency: Air Force

Property Number: 18200220030

Status: Unutilized

Comment: 1152 sq. ft., needs repair, presence of lead paint, most recent use—power station

Bldg. 1273

Verona Test Annex

Verona Co: Oneida NY 13478-

Landholding Agency: Air Force

Property Number: 18200220031

Status: Unutilized

Comment: 87 sq. ft., presence of asbestos, most recent use—sewage pump station

Bldg. 1277

Verona Test Annex

Verona Co: Oneida NY 13478-

Landholding Agency: Air Force

Property Number: 18200220032

Status: Unutilized

Comment: 3865 sq. ft., needs repair, presence of asbestos/lead paint, most recent use—research lab

Bldg. 1279

Verona Test Annex

Verona Co: Oneida NY 13478-

Landholding Agency: Air Force

Property Number: 18200220033

Status: Unutilized

Comment: 1152 sq. ft., needs repair, presence of lead paint, most recent use—power station

Bldg. 1285

Verona Test Annex

Verona Co: Oneida NY 13478-

Landholding Agency: Air Force

Property Number: 18200220034

Status: Unutilized

Comment: 4690 sq. ft., needs repair, presence of asbestos/lead paint, most recent use—research lab

Bldg. 1287

Verona Test Annex

Verona Co: Oneida NY 13478-

Landholding Agency: Air Force

Property Number: 18200220035

Status: Unutilized

Comment: 1152 sq. ft., needs repair, presence of lead paint, most recent use—power station

Social Sec. Admin. Bldg.

517 N. Barry St.

Olean NY 10278-0004

Landholding Agency: GSA

Property Number: 54200230009

Status: Excess

Comment: 9174 sq. ft., poor condition, most recent use—office

GSA Number: 1-G-NY-0895

Army Reserve Center

205 Oak Street

Batavia NY 14020-

Landholding Agency: GSA

Property Number: 54200240004

Status: Excess

Comment: 9695 sq. ft., presence of asbestos/lead paint, most recent use—admin/storage, proximity of wetlands

GSA Number: 1-D-NY-890

Hancock Army Complex

Track 4

Stewart Drive West

Cicero Co: Onondaga NY 13039-

Landholding Agency: GSA

Property Number: 54200310013

Status: Excess

Comment: 3 bunker-style structures and several small outbuildings, presence of asbestos, possible lead paint, most recent use—admin/training/storage

GSA Number: 1-D-NY-803

North Carolina

Vehicle Maint. Facility

310 New Bern Ave.

Raleigh Co: Wake NC 27601-

Landholding Agency: GSA

Property Number: 54200020012

Status: Excess

Comment: 10,455 sq. ft., most recent use—maintenance garage

GSA Number: NC076AB

Tennessee

3 Facilities, Guard Posts

Volunteer Army Ammunition Plant

Chattanooga Co: Hamilton TN 37421-

Landholding Agency: GSA

Property Number: 54199930011

Status: Surplus

Comment: 48-64 sq. ft., most recent use—access control, property was published in error as available on 2/11/00

GSA Number: 4-D-TN-594F

4 Bldgs.

Volunteer Army Ammunition Plant

Railroad System Facilities

Chattanooga Co: Hamilton TN 37421-

Landholding Agency: GSA

Property Number: 54199930012

Status: Surplus

Comment: 144-2,420 sq. ft., most recent use—storage/rail weighing facilities/dock, potential use restrictions, property was published in error as available on 2/11/00

GSA Number: 4-D-TN-594F

200 bunkers

Volunteer Army Ammunition Plant

Storage Magazines

Chattanooga Co: Hamilton TN 37421-

Landholding Agency: GSA

Property Number: 54199930014

Status: Surplus

Comment: approx. 200 concrete bunkers covering a land area of approx. 4000 acres, most recent use—storage/buffer area, potential use restrictions, property was published in error as available on 2/11/00

GSA Number: 4-D-TN-594F

Bldg. 232

Volunteer Army Ammunition Plant

Chattanooga Co: Hamilton TN 37421-

Landholding Agency: GSA

Property Number: 54199930020

Status: Surplus

Comment: 10,000 sq. ft., most recent use—office, presence of asbestos, approx. 5 acres associated w/bldg., potential use restrictions, property was published in error as available on 2/11/00

GSA Number: 4-D-TN-594F

2 Laboratories

Volunteer Army Ammunition Plant

Chattanooga Co: Hamilton TN 37421-

Landholding Agency: GSA

Property Number: 54199930021

Status: Surplus

Comment: 2000-12,000 sq. ft., potential use/lease restrictions, property was published in error as available on 2/11/00

GSA Number: 4-D-TN-594F

3 Facilities

Volunteer Army Ammunition Plant

Water Distribution Facilities

Chattanooga Co: Hamilton TN 37421-

Landholding Agency: GSA

Property Number: 54199930022

Status: Surplus

Comment: 256-15,204 sq. ft., 35.86 acres associated w/bldgs., most recent use—water distribution system, potential use/lease restrictions, property was published in error as available on 2/11/00

GSA Number: 4-D-TN-594F

Washington

22 Bldgs./Geiger Heights

Fairchild AFB

Spokane WA 99224-

Landholding Agency: Air Force

Property Number: 18200420001

Status: Unutilized

Comment: 1625 sq. ft., possible asbestos/lead paint, most recent use—residential

Bldg. 404/Geiger Heights

Fairchild AFB

Spokane WA 99224-

Landholding Agency: Air Force

Property Number: 18200420002

Status: Unutilized

Comment: 1996 sq. ft., possible asbestos/lead paint, most recent use—residential

11 Bldgs./Geiger Heights

Fairchild AFB

Spokane WA 99224-

Landholding Agency: Air Force

Property Number: 18200420003

Status: Unutilized

Comment: 2134 sq. ft., possible asbestos/lead paint, most recent use—residential

Bldg. 297/Geiger Heights

Fairchild AFB

Spokane WA 99224-

Landholding Agency: Air Force

Property Number: 18200420004

Status: Unutilized

Comment: 1425 sq. ft., possible asbestos/lead paint, most recent use—residential

9 Bldgs./Geiger Heights

Fairchild AFB

Spokane WA 99224-

Landholding Agency: Air Force

Property Number: 18200420005

Status: Unutilized

Comment: 1620 sq. ft., possible asbestos/lead paint, most recent use—residential

22 Bldgs./Geiger Heights

Fairchild AFB

Spokane WA 99224-

Landholding Agency: Air Force

Property Number: 18200420006

Status: Unutilized

Comment: 2850 sq. ft., possible asbestos/lead paint, most recent use—residential

51 Bldgs./Geiger Heights

Fairchild AFB

Spokane WA 99224-

Landholding Agency: Air Force

Property Number: 18200420007

Status: Unutilized

Comment: 2574 sq. ft., possible asbestos/lead paint, most recent use—residential

Bldg. 402/Geiger Heights

Fairchild AFB

Spokane WA 99224-

Landholding Agency: Air Force

Property Number: 18200420008

Status: Unutilized

Comment: 2451 sq. ft., possible asbestos/lead paint, most recent use—residential

5 Bldgs./Geiger Heights

Fairchild AFB 222, 224, 271, 295, 260

Spokane WA 99224-

Landholding Agency: Air Force

Property Number: 18200420009

Status: Unutilized

Comment: 3043 sq. ft., possible asbestos/lead paint, most recent use—residential

5 Bldgs./Geiger Heights

Fairchild AFB 102, 183, 118, 136, 113

Spokane WA 99224-

Landholding Agency: Air Force

Property Number: 18200420010

Status: Unutilized

Comment: 2599 sq. ft., possible asbestos/lead paint, most recent use—residential

Land (by State)

New Jersey

Belle Mead Depot

Rt. 206/Mountain View Rd.

Hillsborough Co: Somerset NJ 08502-

Landholding Agency: GSA

Property Number: 54200210014

Status: Excess

Comment: approx. 400 acres, property will not be subdivided, contaminants of concern present, lease restriction on 7 acres, 44 miles of railroad track, remediation activity, potential restriction of property f

GSA Number: 1-G-NJ-0642

South Dakota

Tract 133

Ellsworth AFB

Box Elder Co: Pennington SD 57706-

Landholding Agency: Air Force

Property Number: 18200310004

Status: Unutilized

Comment: 53.23 acres

Tract 67

Ellsworth AFB

Box Elder Co: Pennington SD 57706-

Landholding Agency: Air Force

Property Number: 18200310005

Status: Unutilized

Comment: 121 acres, bentonite layer in soil, causes movement

Tennessee

1500 acres

Volunteer Army Ammunition Plant

Chattanooga Co: Hamilton TN 37421-

Landholding Agency: GSA

Property Number: 54199930015

Status: Surplus

Comment: scattered throughout facility, most recent use—buffer area, steep topography, potential use restrictions, property was published in error as available on 2/11/00

GSA Number: 4-D-TN-594F

Suitable/To Be Excessed

Buildings (by State)

Massachusetts

Cuttyhunk Boathouse

South Shore of Cuttyhunk Pond

Gosnold Co: Dukes MA 02713-

Landholding Agency: Coast Guard

Property Number: 87199310001

Status: Unutilized

Comment: 2700 sq. ft., wood frame, one story, needs rehab, limited utilities, off-site use only.

Nauset Beach Light

Nauset Beach Co: Barnstable MA

Landholding Agency: Coast Guard

Property Number: 87199420001

Status: Unutilized

Comment: 48 foot tower, cylindrical cast iron, most recent use—aid to navigation

Light Tower, Highland Light

Near Rt. 6, 9 miles south of Race Point

North Truro Co: Barnstable MA 02652-

Landholding Agency: Coast Guard

Property Number: 87199430005

Status: Excess

Comment: 66 ft. tower, 14′9″ diameter, brick structure, scheduled to be vacated 9/94

Keepers Dwelling

Highland Light

Near Rt. 6, 9 miles south of Race Point

North Truro Co: Barnstable MA 02652-

Landholding Agency: Coast Guard

Property Number: 87199430006

Status: Excess

Comment: 1160 sq. ft., 2-story wood frame, attached to light tower, scheduled to be vacated 9/94

Duplex Housing Unit

Highland Light

Near Rt. 6, 9 miles south of Race Point

North Truro Co: Barnstable MA 02652-

Landholding Agency: Coast Guard

Property Number: 87199430007

Status: Excess

Comment: 2 living units, 930 sq. ft. each, 1-story each, located on eroding ocean bluff, scheduled to be vacated 9/94

Nahant Towers

Nahant Co: Essex MA

Landholding Agency: Coast Guard

Property Number: 87199530001

Status: Unutilized

Comment: 196 sq. ft., 8-story observation tower

Unsuitable Properties

Buildings (by State)

Alabama

Dwelling A

USCG Mobile Pt. Station

Ft. Morgan

Gulfshores Co: Baldwin AL 36542-

Landholding Agency: Coast Guard

Property Number: 87199120001

Status: Excess

Reason: Floodway

Dwelling B

USCG Mobile Pt. Station

Ft. Morgan

Gulfshores Co: Baldwin AL 36542-

Landholding Agency: Coast Guard

Property Number: 87199120002

Status: Excess

Reason: Floodway

Oil House

USCG Mobile Pt. Station

Ft. Morgan

Gulfshores Co: Baldwin AL 36542-

Landholding Agency: Coast Guard

Property Number: 87199120003

Status: Excess

Reason: Floodway

Garage

USCG Mobile Pt. Station

Ft. Morgan

Gulfshores Co: Baldwin AL 36542-

Landholding Agency: Coast Guard

Property Number: 87199120004

Status: Excess

Reason: Floodway

Shop Building

USCG Mobile Pt. Station

Ft. Morgan

Gulfshores Co: Baldwin AL 36542-

Landholding Agency: Coast Guard

Property Number: 87199120005

Status: Excess

Reason: Floodway

Alaska

Bldg. 15532

Elmendorf AFB

Elmendorf AFB AK 99506-

Landholding Agency: Air Force

Property Number: 18200220001

Status: Unutilized

Reasons: Within airport runway clear zone; Secured Area

Bldg. 8354

Elmendorf AFB

Elmendorf AFB AK 99506-

Landholding Agency: Air Force

Property Number: 18200240001

Status: Unutilized

Reason: Extensive deterioration

Bldg. 11827

Elmendorf AFB

Elmendorf AFB AK 99506-

Landholding Agency: Air Force

Property Number: 18200240002

Status: Unutilized

Reasons: Within 2000 ft. of flammable or explosive material; Secured Area

Bldg. 7537

Elmendorf Air Force Base

Elmendorf AFB AK 99506-

Landholding Agency: Air Force

Property Number: 18200320001

Status: Unutilized

Reason: Extensive deterioration

Bldg. 9340

Elmendorf Air Force Base

Elmendorf AFB AK 99506-

Landholding Agency: Air Force

Property Number: 18200320002

Status: Unutilized

Reason: Extensive deterioration

Bldg. 9342

Elmendorf Air Force Base

Elmendorf AFB AK 99506-

Landholding Agency: Air Force

Property Number: 18200320003

Status: Unutilized

Reason: Extensive deterioration

Bldg. 12737

Elmendorf Air Force Base

Elmendorf AFB AK 99506-

Landholding Agency: Air Force

Property Number: 18200320004

Status: Unutilized

Reason: Extensive deterioration

Bldg. 13251

Elmendorf Air Force Base

Elemendorf AFB AK 99506-

Landholding Agency: Air Force

Property Number: 18200320005

Status: Unutilized

Reason: Extensive deterioration

Bldg. 29453

Elmendorf Air Force Base

Elmendorf AFB AK 99506-

Landholding Agency: Air Force

Property Number: 18200320006

Status: Unutilized

Reason: Extensive deterioration

Bldg. 6527

Elmendorf AFB

Elmendorf AFB AK 99506-

Landholding Agency: Air Force

Property Number: 18200330001

Status: Unutilized

Reason: Extensive deterioration

Bldg. 12739

Elmendorf AFB

Elmendorf AFB AK 99506-

Landholding Agency: Air Force

Property Number: 18200330002

Status: Unutilized

Reason: Extensive deterioration

Bldg. 4314

Elmendorf AFB

Elmendorf AFB AK 99506-

Landholding Agency: Air Force

Property Number: 18200340001

Status: Unutilized

Reason: Extensive deterioration

Bldg. 6527

Elmendorf AFB

Elmendorf AFB AK 99506-

Landholding Agency: Air Force

Property Number: 18200340002

Status: Unutilized

Reason: Extensive deterioration

Bldg. 7541

Elmendorf AFB

Elmendorf AFB AK 99506-

Landholding Agency: Air Force

Property Number: 18200340003

Status: Unutilized

Reason: Extensive deterioration

Bldg. 8111

Elmendorf AFB

Elmendorf AFB AK 99506-

Landholding Agency: Air Force

Property Number: 18200340004

Status: Unutilized

Reason: Extensive deterioration

Bldg. 9489

Elmendorf AFB

Elmendorf AFB AK 99506-

Landholding Agency: Air Force

Property Number: 18200340005

Status: Unutilized

Reason: Extensive deterioration

Bldg. 10547

Elmendorf AFB

Elmendorf AFB AK 99506-

Landholding Agency: Air Force

Property Number: 18200340006

Status: Unutilized

Reason: Extensive deterioration

Bldg. B001

Point Higgins

Ketchikan AK 99901-

Landholding Agency: Coast Guard

Property Number: 87200140003

Status: Excess

Reasons: Secured Area; Extensive deterioration

Bldg. B002

Point Higgins

Ketchikan AK 99901-

Landholding Agency: Coast Guard

Property Number: 87200140004

Status: Excess

Reasons: Secured Area; Extensive deterioration

Bldg. B003

Point Higgins

Ketchikan AK 99901-

Landholding Agency: Coast Guard

Property Number: 87200140005

Status: Excess

Reasons: Secured Area; Extensive deterioration

Bldg. B004

Point Higgins

Ketchikan AK 99901-

Landholding Agency: Coast Guard

Property Number: 87200140006

Status: Excess

Reason: Secured Area

Bldg. B006

Point Higgins

Ketchikan AK 99901-

Landholding Agency: Coast Guard

Property Number: 87200140007

Status: Excess

Reasons: Secured Area; Extensive deterioration

Bldg. B008

Point Higgins

Ketchikan AK 99901-

Landholding Agency: Coast Guard

Property Number: 87200140008

Status: Excess

Reasons: Secured Area; Extensive deterioration

Bldg. B009

Point Higgins

Ketchikan AK 99901-

Landholding Agency: Coast Guard

Property Number: 87200140009

Status: Excess

Reasons: Secured Area; Extensive deterioration

Bldg. B011

Point Higgins

Ketchikan AK 99901-

Landholding Agency: Coast Guard

Property Number: 87200140010

Status: Excess

Reasons: Secured Area; Extensive deterioration

Bldg. B012

Point Higgins

Ketchikan AK 99901-

Landholding Agency: Coast Guard

Property Number: 87200140011

Status: Excess

Reasons: Secured Area; Extensive deterioration

Bldg. B000

Point Higgins

Ketchikan AK 99901-

Landholding Agency: Coast Guard

Property Number: 87200140012

Status: Excess

Reason: Extensive deterioration

Bldg. B01

Coast Guard Cutter Sycamore

Cordova AK 99574-

Landholding Agency: Coast Guard

Property Number: 87200310001

Status: Unutilized

Reason: Extensive deterioration

Fuel Tank Facility

USCG LORAN Station

Ketchikan AK 99901-

Landholding Agency: Coast Guard

Property Number: 87200310008

Status: Unutilized

Reason: Extensive deterioration

Heavy Equipment Shed

Coast Guard

off Hanagita Street

Valdez AK

Landholding Agency: Coast Guard

Property Number: 88200410010

Status: Excess

Reason: Extensive deterioration

7 Bldgs.

Coast Guard

L05B thru L05K

Homer AK 99603-

Landholding Agency: Coast Guard

Property Number: 88200420006

Status: Excess

Reasons: Secured Area; Extensive deterioration

California

Bldg. 30101

Vandenberg AFB

Vandenberg Co: Santa Barbara CA 93437-

Landholding Agency: Air Force

Property Number: 18200210019

Status: Unutilized

Reason: Secured Area

Bldgs. 30131, 30709

Vandenberg AFB

Vandenberg Co: Santa Barbara CA 93437-

Landholding Agency: Air Force

Property Number: 18200210020

Status: Unutilized

Reason: Secured Area

Bldgs. 30137, 30701

Vandenberg AFB

Vandenberg Co: Santa Barbara CA 93437-

Landholding Agency: Air Force

Property Number: 18200210021

Status: Unutilized

Reason: Secured Area

Bldg. 30235

Vandenberg AFB

Vandenberg Co: Santa Barbara CA 93437-

Landholding Agency: Air Force

Property Number: 18200210022

Status: Unutilized

Reason: Secured Area

Bldgs. 30238, 30446

Vandenberg AFB

Vandenberg Co: Santa Barbara CA

Landholding Agency: Air Force

Property Number: 18200210023

Status: Unutilized

Reason: Secured Area

Bldgs. 30239, 30444

Vandenberg AFB

Vandenberg Co: Santa Barbara CA 93437-

Landholding Agency: Air Force

Property Number: 18200210024

Status: Unutilized

Reason: Secured Area

Bldgs. 30306, 30335, 30782

Vandenberg AFB

Vandenberg Co: Santa Barbara CA 93437-

Landholding Agency: Air Force

Property Number: 18200210025

Status: Unutilized

Reason: Secured Area

Bldgs. 30339, 30340, 30341

Vandenberg AFB

Vandenberg Co: Santa Barbara CA 93437-

Landholding Agency: Air Force

Property Number: 18200210026

Status: Unutilized

Reason: Secured Area

Bldg. 30447

Vandenberg AFB

Vandenberg Co: Santa Barbara CA 93437-

Landholding Agency: Air Force

Property Number: 18200210027

Status: Unutilized

Reason: Secured Area

Bldg. 30524

Vandenberg AFB

Vandenberg Co: Santa Barbara CA 93437-

Landholding Agency: Air Force

Property Number: 18200210028

Status: Unutilized

Reason: Secured Area

Bldg. 30647

Vandenberg AFB

Vandenberg Co: Santa Barbara CA 93437-

Landholding Agency: Air Force

Property Number: 18200210029

Status: Unutilized

Reason: Secured Area

Bldgs. 30710, 30717

Vandenberg AFB

Vandenberg Co: Santa Barbara CA 93437-

Landholding Agency: Air Force

Property Number: 18200210030

Status: Unutilized

Reason: Secured Area

Bldgs. 30718, 30607

Vandenberg AFB

Vandenberg Co: Santa Barbara CA 93437-

Landholding Agency: Air Force

Property Number: 18200210031

Status: Unutilized

Reason: Secured Area

Bldgs. 30722, 30735

Vandenberg AFB

Vandenberg Co: Santa Barbara CA 93437-

Landholding Agency: Air Force

Property Number: 18200210032

Status: Unutilized

Reason: Secured Area

Bldgs. 30775, 30777

Vandenberg AFB

Vandenberg Co: Santa Barbara CA 93437-

Landholding Agency: Air Force

Property Number: 18200210033

Status: Unutilized

Reason: Secured Area

Bldgs. 30830, 30837

Vandenberg AFB

Vandenberg Co: Santa Barbara CA 93437-

Landholding Agency: Air Force

Property Number: 18200210034

Status: Unutilized

Reason: Secured Area

Bldgs. 30839, 30844, 30854

Vandenberg AFB

Vandenberg Co: Santa Barbara CA 93437-

Landholding Agency: Air Force

Property Number: 18200210035

Status: Unutilized

Reason: Secured Area

Bldg. 06522

Vandenberg AFB

Vandenberg AFB Co: Santa Barbara CA 93437-

Landholding Agency: Air Force

Property Number: 18200330004

Status: Unutilized

Reasons: Secured Area; Extensive deterioration

23 Bldgs.

Edwards AFB

Edwards AFB Co: Kern CA 93524-

Location: 7022-7037, 7039-7040, 7042, 7044, 7046-7048

Landholding Agency: Air Force

Property Number: 18200410002

Status: Unutilized

Reason: Secured Area

Bldg. 98

Vandenberg AFB

Oak Mountain Annex

Santa Barbara Co: CA 93437-

Landholding Agency: Air Force

Property Number: 18200430001

Status: Unutilized

Reasons: Secured Area; Extensive deterioration

Bldg. 488

Vandenberg AFB

Santa Barbara Co: CA 93437-

Landholding Agency: Air Force

Property Number: 18200430002

Status: Unutilized

Reasons: Secured Area; Extensive deterioration

Bldg. 535

Vandenberg AFB

Santa Barbara Co: CA 93437-

Landholding Agency: Air Force

Property Number: 18200430003

Status: Unutilized

Reasons: Secured Area; Extensive deterioration

Bldgs. 734, 738-739

Vandenberg AFB

Santa Barbara Co: CA 93437-

Landholding Agency: Air Force

Property Number: 18200430004

Status: Unutilized

Reason: Secured Area

Bldg. 946

Vandenberg AFB

Santa Barbara Co: CA 93437-

Landholding Agency: Air Force

Property Number: 18200430005

Status: Unutilized

Reason: Secured Area

Bldgs. 1200, 1201

Vandenberg AFB

Santa Barbara Co: CA 93437-

Landholding Agency: Air Force

Property Number: 18200430006

Status: Unutilized

Reasons: Secured Area; Extensive deterioration

Bldg. 1205

Vandenberg AFB

Santa Barbara Co: CA 93437-

Landholding Agency: Air Force

Property Number: 18200430007

Status: Unutilized

Reasons: Secured Area; Extensive deterioration

36 Bldgs.

Edwards AFB

Area F Housing

Kern Co: CA 93524-

Landholding Agency: Air Force

Property Number: 18200430008

Status: Unutilized

Reasons: Secured Area; Extensive deterioration

Bldgs. 7105, 7106

Edwards AFB

Area C

Kern Co: CA 93524-

Landholding Agency: Air Force

Property Number: 18200430009

Status: Unutilized

Reasons: Secured Area; Extensive deterioration

Bldg. 436

Yosemite National Park

Yosemite Co: Mariposa CA 95389-

Landholding Agency: Interior

Property Number: 61200330022

Status: Unutilized

Reason: Extensive deterioration

Mobile Home/T00706

Yosemite Natl Park

5001 Trailer Court

El Portal Co: Mariposa CA 95318-

Landholding Agency: Interior

Property Number: 61200340009

Status: Unutilized

Reason: Extensive deterioration

133/215 Conlon

Golden Gate Natl Rec Area

Mill Valley Co: Marin CA 94941-

Landholding Agency: Interior

Property Number: 61200340011

Status: Unutilized

Reason: Extensive deterioration

Tract 16-147

Yosemite National Park

Yosemite Co: Mariposa CA 95318-

Landholding Agency: Interior

Property Number: 61200420001

Status: Unutilized

Reason: Extensive deterioration

Bldg. 3410

Yosemite National Park

Vogelsang

Yosemite Co: Mariposa CA 95389-

Landholding Agency: Interior

Property Number: 61200420008

Status: Unutilized

Reason: Extensive deterioration

Bldgs. 06240 thru 06245

Yosemite National Park

Tamarack Flat

Yosemite Co: Mariposa CA 95389-

Landholding Agency: Interior

Property Number: 61200420009

Status: Unutilized

Reason: Extensive deterioration

Bldg. 4702

Yosemite National Park

Mariposa Grove

Yosemite Co: Mariposa CA 95389-

Landholding Agency: Interior

Property Number: 61200420010

Status: Unutilized

Reason: Extensive deterioration

Bldg./Lodge

Yosemite National Park

Yosemite Co: Mariposa CA 95389-

Landholding Agency: Interior

Property Number: 61200420011

Status: Unutilized

Reason: Extensive deterioration

Bldg. 34

Coast Guard Integrated Support Command

Alameda CA

Landholding Agency: Coast Guard

Property Number: 87200240006

Status: Unutilized

Reason: Secured Area

Bldg. F

Coast Guard Air Station

San Bruno Co: San Mateo CA 94066-

Landholding Agency: Coast Guard

Property Number: 88200330007

Status: Underutilized

Reason: Secured Area

Bldg. H

Coast Guard Air Station

San Bruno Co: San Mateo CA 94066-

Landholding Agency: Coast Guard

Property Number: 88200330008

Status: Unutilized

Reason: Secured Area

Colorado

Bldg. 105

Peterson AFB

Colorado Springs Co: El Paso CO 80914-

Landholding Agency: Air Force

Property Number: 18200310003

Status: Underutilized

Reasons: Within airport runway clear zone; Secured Area

Bldg. 106

Peterson AFB

Colorado Springs Co: El Paso CO 80914-8090

Landholding Agency: Air Force

Property Number: 18200340010

Status: Underutilized

Reasons: Within 2000 ft. of flammable or explosive material; Within airport runway clear zone; Secured Area

Bldg. 107

Peterson AFB

Colorado Springs Co: El Paso CO 80914-8090

Landholding Agency: Air Force

Property Number: 18200340011

Status: Underutilized

Reasons: Within 2000 ft. of flammable or explosive material; Within airport runway clear zone; Secured Area

Bldg. 108

Peterson AFB

Colorado Springs Co: El Paso CO 80914-8090

Landholding Agency: Air Force

Property Number: 18200340012

Status: Underutilized

Reasons: Within 2000 ft. of flammable or explosive material; Within airport runway clear zone; Secured Area

Bldg. 1166

Peterson AFB

Colorado Springs Co: El Paso CO 80914-1630

Landholding Agency: Air Force

Property Number: 18200410003

Status: Underutilized

Reason: Secured Area

Bldg. 574

National Park

Old Glacier Creek

Rocky Mountain Co: Larimer CO 80517-

Landholding Agency: Interior

Property Number: 61200330001

Status: Unutilized

Reason: Extensive deterioration

Bldg. B-777

National Park

Conservation Camp

Rocky Mountain Co: Grand CO 80447-

Landholding Agency: Interior

Property Number: 61200330002

Status: Unutilized

Reasons: Not accessible; Extensive deterioration

Bldg. B-781

National Park

Conservation Camp

Rocky Mountain Co: Grand CO 80447-

Landholding Agency: Interior

Property Number: 61200330003

Status: Unutilized

Reasons: Not accessible; Extensive deterioration

Bldg. B-852

National Park

Conservation Camp

Rocky Mountain Co: Grand CO 80447-

Landholding Agency: Interior

Property Number: 61200330004

Status: Unutilized

Reason: Not accessible

Wales Bldg. B-816

National Park

Rocky Mountain Co: Grand CO 80447-

Landholding Agency: Interior

Property Number: 61200330005

Status: Unutilized

Reason: Extensive deterioration

Wales Bldg. B-817

National Park

Rocky Mountain Co: Grand CO 80447-

Landholding Agency: Interior

Property Number: 61200330006

Status: Unutilized

Reason: Extensive deterioration

Wales Bldg. B-818

National Park

Rocky Mountain Co: Grand CO 80447-

Landholding Agency: Interior

Property Number: 61200330007

Status: Unutilized

Reason: Extensive deterioration

Alemeda Facility

350 S. Santa Fe Drive

Denver Co: Denver CO 80223-

Landholding Agency: Coast Guard

Property Number: 87199010014

Status: Unutilized

Reason: Other environmental

Comment: contamination

Connecticut

Falkner Island Light

U.S. Coast Guard

Guilford Co: New Haven CT 06512-

Landholding Agency: Coast Guard

Property Number: 87199240031

Status: Unutilized

Reason: Floodway

Florida

Bldg. 1345

Cape Canaveral AFS

Cape Canaveral Co: Brevard FL 32907-

Landholding Agency: Air Force

Property Number: 18200210016

Status: Unutilized

Reasons: Within 2000 ft. of flammable or explosive material; Secured Area

Bldg. 55122

Cape Canaveral AFS

Cape Canaveral Co: Brevard FL 32907-

Landholding Agency: Air Force

Property Number: 18200210018

Status: Unutilized

Reasons: Within 2000 ft. of flammable or explosive material; Secured Area

Bldg. 1705

Cape Canaveral AFS

Cape Canaveral Co: Brevard FL 32907-

Landholding Agency: Air Force

Property Number: 18200330005

Status: Unutilized

Reasons: Within 2000 ft. of flammable or explosive material; Secured Area; Extensive deterioration

Bldg. #3, Recreation Cottage

USCG Station

Marathon Co: Monroe FL 33050-

Landholding Agency: Coast Guard

Property Number: 87199210008

Status: Unutilized

Reasons: Floodway; Secured Area

Bldg. 103, Trumbo Point

Key West Co: Monroe FL 33040-

Landholding Agency: Coast Guard

Property Number: 87199230001

Status: Unutilized

Reasons: Floodway; Secured Area

Exchange Building

St. Petersburg Co: Pinellas FL 33701-

Landholding Agency: Coast Guard

Property Number: 87199410004

Status: Unutilized

Reason: Floodway

9988 Keepers Quarters A

Cape San Blas

Port St. Joe Co: Gulf FL

Landholding Agency: Coast Guard

Property Number: 87199440009

Status: Underutilized

Reasons: Floodway; Secured Area

9989 Keepers Quarters B

Cape San Blas

Port St. Joe Co: Gulf FL

Landholding Agency: Coast Guard

Property Number: 87199440010

Status: Underutilized

Reasons: Floodway; Secured Area

9990 Bldg.

Cape San Blas

Port St. Joe Co: Gulf FL

Landholding Agency: Coast Guard

Property Number: 87199440011

Status: Underutilized

Reasons: Floodway; Secured Area

9991 Plant Bldg.

Cape San Blas

Port St. Joe Co: Gulf FL

Landholding Agency: Coast Guard

Property Number: 87199440012

Status: Underutilized

Reasons: Floodway; Secured Area

9992 Shop Bldg.

Cape San Blas

Port St. Joe Co: Gulf FL

Landholding Agency: Coast Guard

Property Number: 87199440013

Status: Underutilized

Reasons: Floodway; Secured Area

9993 Admin. Bldg.

Cape San Blas

Port St. Joe Co: Gulf FL

Landholding Agency: Coast Guard

Property Number: 87199440014

Status: Underutilized

Reasons: Floodway; Secured Area

9994 Water Pump Bldg.

Cape San Blas

Port St. Joe Co: Gulf FL

Landholding Agency: Coast Guard

Property Number: 87199440015

Status: Underutilized

Reasons: Floodway; Secured Area

Storage Bldg.

Cape San Blas

Port St. Joe Co: Gulf FL

Landholding Agency: Coast Guard

Property Number: 87199440016

Status: Underutilized

Reasons: Floodway; Secured Area

9999 Storage Bldg.

Cape San Blas

Port St. Joe Co: Gulf FL

Landholding Agency: Coast Guard

Property Number: 87199440017

Status: Underutilized

Reasons: Floodway; Secured Area

3 Bldgs. and Land

Peanut Island Station

Riveria Beach Co: Palm Beach FL 33419-0909

Landholding Agency: Coast Guard

Property Number: 87199510009

Status: Unutilized

Reasons: Floodway; Secured Area

Cape St. George Lighthouse

Cape St. George Co: Franklin FL 32328-

Landholding Agency: Coast Guard

Property Number: 87199640002

Status: Unutilized

Reason: Extensive deterioration

Maint/Carpentry Shop

USCG Station

St. Petersburg Co: Pinellas FL 33701-

Landholding Agency: Coast Guard

Property Number: 87200120001

Status: Excess

Reasons: Secured Area; Extensive deterioration

Georgia

Bldg. 340

Savannah IAP

Garden City Co: Chatham GA 31418-

Landholding Agency: Air Force

Property Number: 18200430010

Status: Excess

Reason: Secured Area

Coast Guard Station

St. Simons Island

St. Simons Co: Glynn GA 31522-0577

Landholding Agency: Coast Guard

Property Number: 87199540002

Status: Unutilized

Reason: Extensive deterioration

Hawaii

Bldg. 503

Bellows AFS

Bellows AFS HI

Landholding Agency: Air Force

Property Number: 18200330007

Status: Unutilized

Reasons: Secured Area; Extensive deterioration

Bldg. 907

Hickam AFB

Hickam AFB HI

Landholding Agency: Air Force

Property Number: 18200330009

Status: Unutilized

Reasons: Secured Area; Extensive deterioration

Bldg. 954

Hickam AFB

Hickam AFB HI

Landholding Agency: Air Force

Property Number: 18200330010

Status: Unutilized

Reasons: Secured Area; Extensive deterioration

Bldg. 980

Hickam AFB

Hickam AFB HI

Landholding Agency: Air Force

Property Number: 18200330011

Status: Unutilized

Reason: Secured Area

Bldg. 992

Hickam AFB

Hickam AFB HI

Landholding Agency: Air Force

Property Number: 18200330012

Status: Unutilized

Reason: Secured Area

Bldg. 1035

Hickam AFB

Hickam AFB HI

Landholding Agency: Air Force

Property Number: 18200330013

Status: Unutilized

Reason: Secured Area

Bldgs. 1709, 1721

Hickam AFB

Hickam AFB HI

Landholding Agency: Air Force

Property Number: 18200330014

Status: Unutilized

Reasons: Secured Area; Extensive deterioration

Bldg. 2041

Hickam AFB

Hickam AFB HI

Landholding Agency: Air Force

Property Number: 18200330015

Status: Unutilized

Reasons: Secured Area; Extensive deterioration

Bldg. 2044

Hickam AFB

Hickam AFB HI

Landholding Agency: Air Force

Property Number: 18200330016

Status: Unutilized

Reasons: Secured Area; Extensive deterioration

Bldg. 2104

Hickam AFB

Hickam AFB HI

Landholding Agency: Air Force

Property Number: 18200330017

Status: Unutilized

Reason: Secured Area

Bldg. 3018

Hickam AFB

Hickam AFB HI

Landholding Agency: Air Force

Property Number: 18200330018

Status: Unutilized

Reasons: Secured Area; Extensive deterioration

Bldg. 3202

Hickam AFB

Hickam AFB HI

Landholding Agency: Air Force

Property Number: 18200330019

Status: Unutilized

Reasons: Within 2000 ft. of flammable or explosive material; Secured Area; Extensive deterioration

Bldgs. 3338, 3356

Hickam AFB

Hickam AFB HI

Landholding Agency: Air Force

Property Number: 18200330020

Status: Unutilized

Reasons: Secured Area; Extensive deterioration

Bldg. 3432

Hickam AFB

Hickam AFB HI

Landholding Agency: Air Force

Property Number: 18200330021

Status: Unutilized

Reasons: Secured Area; Extensive deterioration

Bldg. 3375

Hickam AFB

Hickam AFB HI

Landholding Agency: Air Force

Property Number: 18200330031

Status: Unutilized

Reason: Secured Area

Bldgs. 743, 1002, 6100

Johnston Atoll Airfield

Honolulu HI

Landholding Agency: Air Force

Property Number: 18200340013

Status: Unutilized

Reasons: Within 2000 ft. of flammable or explosive material; Within airport runway clear zone; Extensive deterioration

Idaho

Bldg. 1328

Mountain Home AFB

Mountain Home Co: Elmore ID 83648-

Landholding Agency: Air Force

Property Number: 18200240003

Status: Excess

Reason: Within 2000 ft. of flammable or explosive material

Bldg. 0708

Middleton Co: Canyon ID 83644-

Landholding Agency: Interior

Property Number: 61200420005

Status: Unutilized

Reason: Extensive deterioration

Bldg. 0709

Middleton Co: Canyon ID 83644-

Landholding Agency: Interior

Property Number: 61200420006

Status: Unutilized

Reason: Extensive deterioration

Bldg. 0717

Fruitland Co: Payette ID 83619-

Landholding Agency: Interior

Property Number: 61200420007

Status: Unutilized

Reason: Extensive deterioration

Illinois

Calumet Harbor Station

U.S. Coast Guard

Chicago Co: Cook IL

Landholding Agency: Coast Guard

Property Number: 87199310005

Status: Excess

Reason: Secured Area

Storage Bldg.

USCG Auxiliary Radio Site

Waukegan Co: Lake IL 60085-

Landholding Agency: Coast Guard

Property Number: 88200410011

Status: Excess

Reason: Secured Area

Kentucky

Dwelling

USCG Shoreside Detachment

Owensboro Co: Daviess KY

Landholding Agency: Coast Guard

Property Number: 87200230010

Status: Unutilized

Reason: Extensive deterioration

Maine

Supply Bldg., Coast Guard

Southwest Harbor

Southwest Harbor Co: Hancock ME 04679-5000

Landholding Agency: Coast Guard

Property Number: 87199240005

Status: Unutilized

Reason: Floodway

Base Exchange, Coast Guard

Southwest Harbor

Southwest Harbor Co: Hancock ME 04679-5000

Landholding Agency: Coast Guard

Property Number: 87199240006

Status: Unutilized

Reason: Floodway

Engineering Shop, Coast Guard

Southwest Harbor

Southwest Harbor Co: Hancock ME 04679-5000

Landholding Agency: Coast Guard

Property Number: 87199240007

Status: Unutilized

Reason: Floodway

Storage Bldg., Coast Guard

Southwest Harbor

Southwest Harbor Co: Hancock ME 04679-5000

Landholding Agency: Coast Guard

Property Number: 87199240008

Status: Unutilized

Reason: Floodway

Squirrel Point Light

U.S. Coast Guard

Phippsburg Co: Sayadahoc ME 04530-

Landholding Agency: Coast Guard

Property Number: 87199240032

Status: Unutilized

Reason: Floodway

Keepers Dwelling

Heron Neck Light, U.S. Coast Guard

Vinalhaven Co: Knox ME 04841-

Landholding Agency: Coast Guard

Property Number: 87199240035

Status: Unutilized

Reason: Extensive deterioration

Fort Popham Light

Phippsburg Co: Sagadahoc ME 04562-

Landholding Agency: Coast Guard

Property Number: 87199320024

Status: Unutilized

Reason: Extensive deterioration

Nash Island Light

U.S. Coast Guard

Addison Co: Washington ME 04606-

Landholding Agency: Coast Guard

Property Number: 87199420005

Status: Unutilized

Reason: Inaccessible

Bldg.—South Portland Base

U.S. Coast Guard

S. Portland Co: Cumberland ME 04106-

Landholding Agency: Coast Guard

Property Number: 87199420006

Status: Unutilized

Reason: Secured Area

Garage—Boothbay Harbor Stat.

Boothbay Harbor Co: Lincoln ME 04538-

Landholding Agency: Coast Guard

Property Number: 87199430001

Status: Unutilized

Reason: Secured Area

Maryland

Bloody Pt Bar Lighthouse

Chesapeake Bay

Kent MD

Landholding Agency: GSA

Property Number: 54200330002

Status: Excess

Reason: Not accessible

GSA Number : 4-U-MD-0612

Bldgs. 38-39, 41, 43-46, 56

U.S. Coast Guard Yard

Baltimore MD 21226-

Landholding Agency: Coast Guard

Property Number: 87199540005

Status: Unutilized

Reasons: Within 2000 ft. of flammable or explosive material; Secured Area; Extensive deterioration

Bldg. 53

U.S. Coast Guard Yard

Baltimore MD 21226-

Landholding Agency: Coast Guard

Property Number: 87199540006

Status: Unutilized

Reasons: Within 2000 ft. of flammable or explosive material; Secured Area; Extensive deterioration

Bldg. 6

U.S. Coast Guard Yard, 2401 Hawkins Point Rd.

Baltimore MD 21226-1797

Landholding Agency: Coast Guard

Property Number: 87199620001

Status: Excess

Reasons: Within 2000 ft. of flammable or explosive material; Secured Area;

Bldg. 59

U.S. Coast Guard Yard, 2401 Hawkins Point Rd.

Baltimore MD 21226-1797

Landholding Agency: Coast Guard

Property Number: 87199620002

Status: Excess

Reasons: Within 2000 ft. of flammable or explosive material; Secured Area

5 Bldgs.

USCG Yard

#9, 21, 23, 52, 57

Baltimore MD 21226-

Landholding Agency: Coast Guard

Property Number: 87200120002

Status: Unutilized

Reason: Extensive deterioration

Bldg. #81

U.S. Coast Guard Yard

Baltimore Co: Baltimore MD 21226-

Landholding Agency: Coast Guard

Property Number: 87200210001

Status: Underutilized

Reason: Secured Area

Bldg. #85

U.S. Coast Guard YARD

Baltimore Co: Baltimore MD 21226-

Landholding Agency: Coast Guard

Property Number: 87200210002

Status: Underutilized

Reason: Secured Area

Bldg. #86

U.S. Coast Guard YARD

Baltimore Co: Baltimore MD 21226-

Landholding Agency: Coast Guard

Property Number: 87200210003

Status: Underutilized

Reason: Secured Area

Bldg. #86D

U.S. Coast Guard YARD

Baltimore Co: Baltimore MD 21226-

Landholding Agency: Coast Guard

Property Number: 87200210004

Status: Underutilized

Reason: Secured Area

Bldg. #149

U.S. Coast Guard YARD

Baltimore Co: Baltimore MD 21226-

Landholding Agency: Coast Guard

Property Number: 87200210005

Status: Underutilized

Reason: Secured Area

Massachusetts

Wayland Army Natl Guard Fac.

Oxbow Road

Wayland MA 01778-

Landholding Agency: GSA

Property Number: 54200240007

Status: Surplus

Reason: Extensive deterioration

GSA Number: 1-D-MA-0725

Bldg. 4, USCG Support Center

Commercial Street

Boston Co: Suffolk MA 02203-

Landholding Agency: Coast Guard

Property Number: 87199240001

Status: Underutilized

Reason: Secured Area

Eastern Point Light

U.S. Coast Guard

Gloucester Co: Essex MA 01930-

Landholding Agency: Coast Guard

Property Number: 87199240029

Status: Unutilized

Reasons: Floodway; Secured Area

Storage Shed

Highland Light

N. Truro Co: Barnstable MA 02652-

Location: DeSoto Johnson KS 66018-

Landholding Agency: Coast Guard

Property Number: 87199430004

Status: Unutilized

Reason: Extensive deterioration

Michigan

Stroh Army Reserve Center

17825 Sherwood Ave.

Detroit Co: Wayne MI 00000-

Landholding Agency: GSA

Property Number: 54200040001

Status: Surplus

Reason: Within 2000 ft. of flammable or explosive material GSA Number: 1-D-MI-798

Pipe Island Lighthouse

St. Mary's River

Chippewa MI

Landholding Agency: GSA

Property Number: 54200310007

Status: Surplus

Reason: Not accessible by road

GSA Number: 1-U-MI-413A

Station Bldg.

USCG Station

Manistee MI 49660-

Landholding Agency: Coast Guard

Property Number: 87200120003

Status: Unutilized

Reasons: Floodway; Secured Area

Garage Bldg.

USCG Station

Manistee MI 49660-

Landholding Agency: Coast Guard

Property Number: 87200120004

Status: Unutilized

Reasons: Floodway; Secured Area

Shed/Pump Bldg.

USCG Station

Manistee MI 49660-

Landholding Agency: Coast Guard

Property Number: 87200120005

Status: Unutilized

Reasons: Floodway; Secured Area

Storage Bldg.

USCG Station

Manistee MI 49660-

Landholding Agency: Coast Guard

Property Number: 87200120006

Status: Unutilized

Reasons: Floodway; Secured Area

Station/boathouse Bldg.

USCG Harbor Beach Station

Harbor Beach Co: Huron MI 48441-

Landholding Agency: Coast Guard

Property Number: 87200130001

Status: Unutilized

Reasons: Floodway; Extensive deterioration

Buoy Shed

U.S. Coast Guard Station

Sault Ste. Marie Co: Chippewa MI 49783-9501

Landholding Agency: Coast Guard

Property Number: 87200320001

Status: Excess

Reason: Secured Area

Warehouse Bldg.

U.S. Coast Guard

Charlevoix MI 49720-

Landholding Agency: Coast Guard

Property Number: 87200320002

Status: Excess

Reason: Secured Area

Warehouse Bldg.

USCG Atwater Annex

Detroit Co: Wayne MI 49207-

Landholding Agency: Coast Guard

Property Number: 88200410008

Status: Excess

Reason: Secured Area

Garage

USCG Atwater Annex

Detroit Co: Wayne MI 49207-

Landholding Agency: Coast Guard

Property Number: 88200410009

Status: Excess

Reason: Secured Area

Bldg. TH1

USCG Beaver Island

Charlevoix MI

Landholding Agency: Coast Guard

Property Number: 88200420001

Status: Unutilized

Reason: Secured Area

Bldg. OW1

USCG Beaver Island

Charlevoix MI

Landholding Agency: Coast Guard

Property Number: 88200420002

Status: Unutilized

Reason: Secured Area

Bldg. OW2

USCG Beaver Island

Charlevoix MI

Landholding Agency: Coast Guard

Property Number: 88200420003

Status: Unutilized

Reason: Secured Area

Minnesota

Nike Battery Site, MS-40

Castle Rock Township

Farmington Co: Dakota MN 00000-

Landholding Agency: GSA

Property Number: 54200020004

Status: Surplus

Reason: Within 2000 ft. of flammable or explosive material

GSA Number: 1-I-MN-451-B

Parcel B

Twin Cities Army Ammunition Plant

Arden Hills MN 55112-3938

Landholding Agency: GSA

Property Number: 54200240015

Status: Excess

Reason: Within 2000 ft. of flammable or explosive material

GSA Number: 1-D-MN-0578B

Federal Building

720 St. Germain Street

St. Cloud MN 56301-

Landholding Agency: GSA

Property Number: 54200420001

Status: Excess

Reason: Within 2000 ft. of flammable or explosive material

GSA Number: 1-G-MN-581

Mississippi

Natchez Moorings

82 L.E. Berry Road

Natchez Co: Adams MS 39121-

Landholding Agency: Coast Guard

Property Number: 87199340002

Status: Unutilized

Reason: Extensive deterioration

Montana

Bldg. 547

Malmstrom AFB

Malmstrom AFB Co: Cascade MT 59402-

Landholding Agency: Air Force

Property Number: 18200240004

Status: Unutilized

Reasons: Within 2000 ft. of flammable or explosive material; Secured Area

Bldg. 1084

Malmstrom AFB

Malmstrom AFB Co: Cascade MT 59402-

Landholding Agency: Air Force

Property Number: 18200240006

Status: Unutilized

Reasons: Within 2000 ft. of flammable or explosive material; Secured Area

Bldg. 2025

Malmstrom AFB

Malmstrom AFB Co: Cascade MT 59402-

Landholding Agency: Air Force

Property Number: 18200240007

Status: Unutilized

Reason: Secured Area

Bldg. 1700

Malmstrom AFB

Malmstrom AFB Co: Cascade MT 59402-

Landholding Agency: Air Force

Property Number: 18200330022

Status: Unutilized

Reasons: Within 2000 ft. of flammable or explosive material; Secured Area; Extensive deterioration

Bldg. 771

Malmstrom AFB

Malmstrom AFB MT 59402-

Landholding Agency: Air Force

Property Number: 18200410004

Status: Unutilized

Reason: Secured Area

Bldg.

Tiber Dam

Chester Co: Liberty MT 59522-

Landholding Agency: Interior

Property Number: 61200410005

Status: Excess

Reason: Extensive deterioration

Nevada

6 Bldgs.

Dale Street Complex

300, 400, 500, 600, Block Bldg, Valve House

Boulder City NV 89005-

Landholding Agency: GSA

Property Number: 54200020017

Status: Excess

Reason: Extensive deterioration

GSA Number: LC-00-01-RP

Air Traffic Control Tower

Perimeter Road

Las Vegas NV

Landholding Agency: Coast Guard

Property Number: 87200310002

Status: Unutilized

Reason: Within airport runway clear zone

New Hampshire

Naval Obs. Tower

Rye NH 03870-

Landholding Agency: GSA

Property Number: 54200420007

Status: Excess

Reason: Contamination

GSA Number: 1-N-NH-451

New Jersey

Former NIKE Missile Battery

Site PH-58

Woolwich Co: Gloucester NJ

Landholding Agency: GSA

Property Number: 54200310012

Status: Excess

Reason: Extensive deterioration

GSA Number: 1-GR-NJ-0538

Piers and Wharf

Station Sandy Hook

Highlands Co: Monmouth NJ 07732-5000

Landholding Agency: Coast Guard

Property Number: 87199240009

Status: Unutilized

Reasons: Secured Area; Extensive deterioration

Chapel Hill Front Range Light Tower

Middletown Co: Monmouth NJ 07748-

Landholding Agency: Coast Guard

Property Number: 87199440002

Status: Unutilized

Reason: Skeletal tower

Bldg. 103

U.S. Coast Guard Guard Station Sandy Hook

Middleton Co: Monmouth NJ 07737-

Landholding Agency: Coast Guard

Property Number: 87199610002

Status: Unutilized

Reason: Secured Area

Ship Stg. Bldg.

USCG Training Center

Cape May NJ 08204-5002

Landholding Agency: Coast Guard

Property Number: 87200110018

Status: Excess

Reason: Secured Area

Exchange Whse

USCG Training Center

Cape May NJ 08204-5002

Landholding Agency: Coast Guard

Property Number: 87200110019

Status: Excess

Reason: Secured Area

Patrol Boat Bldg.

USCG Training Center

Cape May NJ 08204-5002

Landholding Agency: Coast Guard

Property Number: 87200110020

Status: Excess

Reason: Secured Area

Station Bldg.

USCG Training Center

Cape May NJ 08204-5002

Landholding Agency: Coast Guard

Property Number: 87200110021

Status: Excess

Reason: Secured Area

ANT Bldg.

USCG Training Center

Cape May NJ 08204-5002

Landholding Agency: Coast Guard

Property Number: 87200110022

Status: Excess

Reason: Secured Area

Quarters C

USCG Training Center

Cape May NJ 08204-5002

Landholding Agency: Coast Guard

Property Number: 87200120012

Status: Excess

Reason: Secured Area

Central Heating Plant

USCG Training Center

Cape May NJ 08204-5002

Landholding Agency: Coast Guard

Property Number: 87200120013

Status: Excess

Reason: Secured Area

Hangar/Shop

USCG Training Center

Cape May NJ 08204-5002

Landholding Agency: Coast Guard

Property Number: 87200120014

Status: Excess

Reason: Secured Area

Bldg. 195

U.S. Coast Guard

Cape May NJ 08204-5002

Landholding Agency: Coast Guard

Property Number: 87200220001

Status: Excess

Reason: Secured Area

Bldg. 204

U.S. Coast Guard

Cape May NJ 08204-5002

Landholding Agency: Coast Guard

Property Number: 87200220002

Status: Excess

Reason: Secured Area

Bldg. 208

U.S. Coast Guard

Cape May NJ 08204-5002

Landholding Agency: Coast Guard

Property Number: 87200220003

Status: Excess

Reason: Secured Area

Bldg. 209

U.S. Coast Guard

Cape May NJ 08204-5002

Landholding Agency: Coast Guard

Property Number: 87200220004

Status: Excess

Reason: Secured Area

Sheds OV1, OV2, OV3

U.S. Coast Guard

Shark River

Avon by the Sea Co: Monmouth NJ 13640-

Landholding Agency: Coast Guard

Property Number: 87200240001

Status: Unutilized

Reason: Secured Area

Unit 13

USCG Station Barnegat Light

Station Barnegat Co: Ocean NJ

Landholding Agency: Coast Guard

Property Number: 87200240002

Status: Unutilized

Reason: Secured Area

Units 9-12

USCG Station Barnegat Light

Station Barnegat Co: Ocean NJ

Landholding Agency: Coast Guard

Property Number: 87200240003

Status: Unutilized

Reason: Secured Area

Bldg. 019

Coast Guard Training Center

Cape May NJ 08204-

Landholding Agency: Coast Guard

Property Number: 87200310003

Status: Excess

Reasons: Secured Area; Extensive deterioration

Bldg. 022

Coast Guard Training Center

Cape May NJ 08204-

Landholding Agency: Coast Guard

Property Number: 87200310004

Status: Excess

Reasons: Secured Area; Extensive deterioration

Bldg. 192

Coast Guard Training Center

Cape May NJ 08204-

Landholding Agency: Coast Guard

Property Number: 87200310005

Status: Excess

Reasons: Secured Area; Extensive deterioration

Bldg. 193

Coast Guard Training Center

Cape May NJ 08204-

Landholding Agency: Coast Guard

Property Number: 87200310006

Status: Excess

Reasons: Secured Area; Extensive deterioration

Bldg. 207

Coast Guard Training Center

Cape May NJ 08204-

Landholding Agency: Coast Guard

Property Number: 87200310007

Status: Excess

Reasons: Secured Area; Extensive deterioration

Bldg. 260

Coast Guard Training Center

Cape May NJ 08204-

Landholding Agency: Coast Guard

Property Number: 88200330001

Status: Excess

Reasons: Secured Area; Extensive deterioration

Structure U02

Coast Guard Training Center

Cape May NJ 08204-

Landholding Agency: Coast Guard

Property Number: 88200330002

Status: Excess

Reason: Secured Area

New Mexico

Bldg. 14170

Cannon AFB

Cannon AFB Co: Curry NM

Landholding Agency: Air Force

Property Number: 18200230010

Status: Unutilized

Reason: Secured Area

Bldg. 14240

Cannon AFB

Cannon AFB NM

Landholding Agency: Air Force

Property Number: 18200230011

Status: Unutilized

Reason: Secured Area

Bldg. 14270

Cannon AFB

Cannon AFB Co: Curry NM

Landholding Agency: Air Force

Property Number: 18200230012

Status: Unutilized

Reason: Secured Area

Bldg. 14330

Cannon AFB

Cannon AFB Co: Curry NM

Landholding Agency: Air Force

Property Number: 18200230013

Status: Unutilized

Reason: Secured Area

Bldg. 14350

Cannon AFB

Cannon AFB Co: Curry NM

Landholding Agency: Air Force

Property Number: 18200230014

Status: Unutilized

Reason: Secured Area

Bldg. 14370

Cannon AFB

Cannon AFB Co: Curry NM

Landholding Agency: Air Force

Property Number: 18200230015

Status: Unutilized

Reason: Secured Area

Bldg. 14390

Cannon AFB

Cannon AFB Co: Curry NM

Landholding Agency: Air Force

Property Number: 18200230016

Status: Unutilized

Reason: Secured Area

Bldg. 524

Holloman AFB

Otero NM 88330-

Landholding Agency: Air Force

Property Number: 18200330024

Status: Unutilized

Reasons: Within 2000 ft. of flammable or explosive material; Secured Area

Bldg. 1076

Holloman AFB

Otero NM 88330-

Landholding Agency: Air Force

Property Number: 18200330025

Status: Unutilized

Reasons: Secured Area; Extensive deterioration

Bldg. 1190

Holloman AFB

Otero NM 88330-

Landholding Agency: Air Force

Property Number: 18200330026

Status: Unutilized

Reasons: Secured Area; Extensive deterioration

Bldg. 1264

Holloman AFB

Otero NM 88330-

Landholding Agency: Air Force

Property Number: 18200330027

Status: Unutilized

Reason: Secured Area

Bldg. 5001

Holloman AFB

Otero NM 88330-

Landholding Agency: Air Force

Property Number: 18200330028

Status: Unutilized

Reason: Secured Area

Bldg. 5012

Holloman AFB

Otero NM 88330-

Landholding Agency: Air Force

Property Number: 18200330029

Status: Unutilized

Reason: Secured Area

Bldg. 615

Kirtland AFB

Kirtland AFB Co: Bernalillo NM 87117-5663

Landholding Agency: Air Force

Property Number: 18200340014

Status: Unutilized

Reasons: Secured Area; Extensive deterioration

Bldg. 736

Kirtland AFB

Kirtland AFB Co: Bernalillo NM 87117-5663

Landholding Agency: Air Force

Property Number: 18200340015

Status: Unutilized

Reason: Secured Area

Bldg. 1013

Kirtland AFB

Kirtland AFB Co: Bernalillo NM 87117-5663

Landholding Agency: Air Force

Property Number: 18200340016

Status: Unutilized

Reason: Secured Area

Bldg. 20419

Kirtland AFB

Kirtland AFB Co: Bernalillo NM 87117-5663

Landholding Agency: Air Force

Property Number: 18200340017

Status: Unutilized

Reason: Secured Area

Bldgs. 29014, 29016, 29017

Kirtland AFB

Kirtland AFB Co: Bernalillo NM 87117-5663

Landholding Agency: Air Force

Property Number: 18200340018

Status: Unutilized

Reasons: Secured Area; Extensive deterioration

Bldg. 30102

Kirtland AFAB

Kirtland AFB Co: Bernalillo NM 87117-5663

Landholding Agency: Air Force

Property Number: 18200340019

Status: Unutilized

Reason: Secured Area

Bldgs. 37532, 37534

Kirtland AFB

Kirtland AFB Co: Bernalillo NM 87117-5663

Landholding Agency: Air Force

Property Number: 18200340020

Status: Unutilized

Reasons: Secured Area; Extensive deterioration

Bldg. 57005

Kirtland AFB

Kirtland AFB Co: Bernalillo NM 87117-5663

Landholding Agency: Air Force

Property Number: 18200340021

Status: Unutilized

Reasons: Secured Area; Extensive deterioration

Bldgs. 57006, 57013

Kirtland AFB

Kirtland AFB Co: Bernalillo NM 87117-5663

Landholding Agency: Air Force

Property Number: 18200340022

Status: Unutilized

Reasons: Secured Area; Extensive deterioration

Bldgs. 10, 11

Holloman AFB

Holloman Co: Otero NM 88330-

Landholding Agency: Air Force

Property Number: 18200410005

Status: Unutilized

Reason: Secured Area:

Tract 102-73

El Malpais National Monument

Grants Co: Cibola NM 87020-

Landholding Agency: Interior

Property Number: 61200420002

Status: Unutilized

Reason: Extensive deterioration

New York

6 UG Missle Silos

Youngstown Test Annex

Porter Co: Niagara NY

Landholding Agency: Air Force

Property Number: 18200220003

Status: Unutilized

Reason: Extensive deterioration

Bldg. 100

Youngstown Test Annex

Porter Co: Niagara NY

Landholding Agency: Air Force

Property Number: 18200220004

Status: Unutilized

Reason: Extensive deterioration

Bldg. 101

Youngstown Test Annex

Porter Co: Niagara NY

Landholding Agency: Air Force

Property Number: 18200220005

Status: Unutilized

Reason: Extensive deterioration

Bldg. 104

Youngstown Test Annex

Porter Co: Niagara NY

Landholding Agency: Air Force

Property Number: 18200220006

Status: Unutilized

Reason: Extensive deterioration

Bldg. 107

Youngstown Test Annex

Porter Co: Niagara NY

Landholding Agency: Air Force

Property Number: 18200220007

Status: Unutilized

Reason: Extensive deterioration

Bldg. 109

Youngstown Test Annex

Porter Co: Niagara NY

Landholding Agency: Air Force

Property Number: 18200220008

Status: Unutilized

Reason: Extensive deterioration

Bldg. 116

Youngstown Test Annex

Porter Co: Niagara NY

Landholding Agency: Air Force

Property Number: 18200220009

Status: Unutilized

Reason: Extensive deterioration

Bldgs/Pier/Field

USCG/Ft. Totten

Borough of Queens Co: Flushing NY

Landholding Agency: GSA

Property Number: 54200320015

Status: Surplus

Reason: Contamination

GSA Number: 1-U-NY-882

Gardiners Point

Long Island Co: Suffolk NY

Landholding Agency: GSA

Property Number: 54200340003

Status: Excess

Reasons: No access/unexploded ordnance; Extensive deterioration

GSA Number: 1-N-NY-897

Army Reserve Center

Corning Co: Steuben NY 14830-2098

Landholding Agency: GSA

Property Number: 54200420017

Status: Excess

Reason: Within 2000 ft. of flammable or explosive material

GSA Number: 1-D-NY-0896

2 Buildings

Ant Saugerties

Saugerties Co: Ulster NY 12477-

Landholding Agency: Coast Guard

Property Number: 87199230005

Status: Unutilized

Reason: Extensive deterioration

Bldg. 606, Fort Totten

New York Co: Queens NY 11359-

Landholding Agency: Coast Guard

Property Number: 87199240020

Status: Unutilized

Reason: Secured Area

Bldg. 607, Fort Totten

New York Co: Queens NY 11359-

Landholding Agency: Coast Guard

Property Number: 87199240021

Status: Unutilized

Reasons: Extensive deterioration; Secured Area

Bldg. 605, Fort Totten

New York Co: Queens NY 11359-

Landholding Agency: Coast Guard

Property Number: 87199240022

Status: Unutilized

Reasons: Extensive deterioration; Secured Area

Eatons Neck Station

U.S. Coast Guard

Huntington Co: Suffolk NY 11743-

Landholding Agency: Coast Guard

Property Number: 87199310003

Status: Unutilized

Reasons: Secured Area; Extensive deterioration

Bldg. 517, USCG Support Center

Governors Island Co: Manhattan NY 10004-

Landholding Agency: Coast Guard

Property Number: 87199320025

Status: Unutilized

Reason: Secured Area

Bldg. 138

U.S. Coast Guard Support Center

Governors Island Co: Manhattan NY 10004-

Landholding Agency: Coast Guard

Property Number: 87199410003

Status Unutilized

Reason: Secured Area

Bldg. 830

U.S. Coast Guard

Governors Island Co: Manhattan NY 10004-

Landholding Agency: Coast Guard

Property Number: 87199420004

Status Unutilized

Reason: Secured Area

Bldg. 8

Rosebank—Coast Guard Housing

Staten Island Co: Richmond NY 10301-

Landholding Agency: Coast Guard

Property Number: 87199530009

Status Unutilized

Reason: Secured Area

Bldg. 7

Rosebank—Coast Guard Housing

Staten Island Co: Richmond NY 10301-

Landholding Agency: Coast Guard

Property Number: 87199530010

Status Unutilized

Reasons: Secured Area; Extensive deterioration

Bldg. 222

Fort Wadsworth

Staten Island Co: Richmond NY 10305-

Landholding Agency: Coast Guard

Property Number: 87199620003

Status Unutilized

Reason: Secured Area

Bldg. 223

Fort Wadsworth

Staten Island Co: Richmond NY 10305-

Landholding Agency: Coast Guard

Property Number: 87199620004

Status Unutilized

Reason: Secured Area

Bldg. 205

Fort Wadsworth

Staten Island Co: Richmond NY 10305-

Landholding Agency: Coast Guard

Property Number: 87199620005

Status: Unutilized

Reason: Secured Area

Bldg. 9

U.S. Coast Guard—Rosebank

Staten Island Co: Richmond NY 10301-

Landholding Agency: Coast Guard

Property Number: 87199630027

Status: Excess

Reason: Secured Area

Bldg. 10

U.S. Coast Guard—Rosebank

Staten Island Co: Richmond NY 10301-

Landholding Agency: Coast Guard

Property Number: 87199630028

Status: Excess

Reason: Secured Area

Bldg. 206, Rosebank

Staten Island Co: Richmond NY 10301-

Landholding Agency: Coast Guard

Property Number: 87199630029

Status: Excess

Reason: Secured Area

Bldg. OG2

Coast Guard Station

Alexandria Bay Co: Jefferson NY 13640-

Landholding Agency: Coast Guard

Property Number: 87200210021

Status: Unutilized

Reason: Secured Area

North Carolina

Group Cape Hatteras

Boiler Plant

Buxton Co: Dare NC 27902-0604

Landholding Agency: Coast Guard

Property Number: 87199240018

Status: Unutilized

Reason: Secured Area

Group Cape Hatteras

Bowling Alley

Buxton Co: Dare NC 27902-0604

Landholding Agency: Coast Guard

Property Number: 87199240019

Status: Unutilized

Reason: Secured Area

Bldg. 54

Group Cape Hatteras

Buxton Co: Dare NC 27902-0604

Landholding Agency: Coast Guard

Property Number: 87199340004

Status: Unutilized

Reason: Secured Area

Bldg. 83

Group Cape Hatteras

Buxton Co: Dare NC 27902-0604

Landholding Agency: Coast Guard

Property Number: 87199340005

Status: Unutilized

Reason: Secured Area

Water Tanks

Group Cape Hatteras

Buxton Co: Dare NC 27902-0604

Landholding Agency: Coast Guard

Property Number: 87199340006

Status: Unutilized

Reason: Secured Area

USCG Gentian (WLB 290)

Fort Macon State Park

Atlantic Beach Co: Carteret NC 27601-

Landholding Agency: Coast Guard

Property Number: 87199420007

Status: Excess

Reason: Secured Area

Unit #71

Buxton Annex, Cape Kendrick Circle

Buxton Co: Dare NC 27920-

Landholding Agency: Coast Guard

Property Number: 87199530011

Status: Unutilized

Reason: Floodway

Unit #72

Buxton Annex, Cape Kendrick Circle

Buxton Co: Dare NC 27920-

Landholding Agency: Coast Guard

Property Number: 87199530012

Status: Unutilized

Reason: Floodway

Unit #73

Buxton Annex, Cape Kendrick Circle

Buxton Co: Dare NC 27920-

Landholding Agency: Coast Guard

Property Number: 87199530013

Status: Unutilized

Reason: Floodway

Unit #74

Buxton Annex, Cape Kendrick Circle

Buxton Co: Dare NC 27920-

Landholding Agency: Coast Guard

Property Number: 87199530014

Status: Unutilized

Reason: Floodway

Unit #75

Buxton Annex, Cape Kendrick Circle

Buxton Co: Dare NC 27920-

Landholding Agency: Coast Guard

Property Number: 87199530015

Status: Unutilized

Reason: Floodway

Unit #63

Buxton Annex, Anna May Court

Buxton Co: Dare NC 27920-

Landholding Agency: Coast Guard

Property Number: 87199530016

Status: Unutilized

Reason: Floodway

Unit #64

Buxton Annex, Anna May Court

Buxton Co: Dare NC 27920-

Landholding Agency: Coast Guard

Property Number: 87199530017

Status: Unutilized

Reason: Floodway

Unit #76

Buxton Annex, Anna May Court

Buxton Co: Dare NC 27920-

Landholding Agency: Coast Guard

Property Number: 87199530018

Status: Unutilized

Reason: Floodway

Unit #68

Buxton Annex, Anna May Court

Buxton Co: Dare NC 27920-

Landholding Agency: Coast Guard

Property Number: 87199530019

Status: Unutilized

Reason: Floodway

Unit #69

Buxton Annex, Anna May Court

Buxton Co: Dare NC 27920-

Landholding Agency: Coast Guard

Property Number: 87199530020

Status: Unutilized

Reason: Floodway

Unit #70

Buxton Annex, Anna May Court

Buxton Co: Dare NC 27920-

Landholding Agency: Coast Guard

Property Number: 87199530021

Status: Unutilized

Reason: Floodway

Unit #77

Buxton Annex, Old Lighthouse Road

Buxton Co: Dare NC 27920-

Landholding Agency: Coast Guard

Property Number: 87199530022

Status: Unutilized

Reason: Floodway

Unit #78

Buxton Annex, Old Lighthouse Road

Buxton Co: Dare NC 27920-

Landholding Agency: Coast Guard

Property Number: 87199530023

Status: Unutilized

Reason: Floodway

Bldg. 53

Coast Guard Support Center

Elizabeth City Co: Pasquotank NC 27909-5006

Landholding Agency: Coast Guard

Property Number: 87199630022

Status: Unutilized

Reason: Secured Area

Bldg. OV1 (033)

USCG Cape Hatteras

Buxton Co: Dare NC 27902-0604

Landholding Agency: Coast Guard

Property Number: 87200210012

Status: Underutilized

Reason: Secured Area

Storage Bldg.

USCG Loran Station

Carolina Beach Co: New Hanover NC

Landholding Agency: Coast Guard

Property Number: 87200210013

Status: Underutilized

Reason: Secured Area

Frying Pan Schoals Light

USCG

Cape Fear NC

Landholding Agency: Coast Guard

Property Number: 87200240004

Status: Unutilized

Reason: Secured Area

Diamond Shoals Light

USCG

Cape Hatteras NC

Landholding Agency: Coast Guard

Property Number: 87200240005

Status: Unutilized

Reason: Secured Area

Bldg. RPFN012

USCG Cape Hatteras

Buxton Co: Dare NC 27902-

Landholding Agency: Coast Guard

Property Number: 88200420005

Status: Unutilized

Reasons: Secured Area Extensive deterioration

Ohio

Army Reserve Center

Plymouth Road

Jamestown Co: Greene OH 45335-

Landholding Agency: GSA

Property Number: 54200340009

Status: Surplus

Reason: Extensive deterioration

GSA Number: 4-G-VA-0734

Petro Distribution System

4820 River Road

Cincinnati Co: Hamilton OH

Landholding Agency: GSA

Property Number: 54200420002

Status: Excess

Reason: Within 2000 ft. of flammable or explosive material

GSA Number: OH

Oregon

Bldg. 0012-0410-00

Homedale Road

Klamath Falls Co: Klamath OR 97603-

Landholding Agency: Interior

Property Number: 61200410002

Status: Unutilized

Reason: Extensive deterioration

Bldg. 0012-0411-00

Homedale Road

Klamath Falls Co: Klamath OR 97603-

Landholding Agency: Interior

Property Number: 61200410003

Status: Unutilized

Reason: Extensive deterioration

Bldg. 0012-0412-00

Homedale Road

Klamath Falls Co: Klamath OR 97603-

Landholding Agency: Interior

Property Number: 61200410004

Status: Unutilized

Reason: Extensive deterioration

Puerto Rico

NAFA Warehouse

U.S. Coast Guard Air Station Borinquen

Aquadilla PR 00604-

Landholding Agency: Coast Guard

Property Number: 87199310011

Status: Unutilized

Reason: Secured Area

Storage Equipment Bldg.

U.S. Coast Guard Air Station Borinquen

Aquadilla PR 00604-

Landholding Agency: Coast Guard

Property Number: 87199330001

Status: Unutilized

Reason: Secured Area

Bldg. 115

U.S. Coast Guard Base

San Juan PR 00902-2029

Landholding Agency: Coast Guard

Property Number: 87199510001

Status: Unutilized

Reason: Secured Area

Bldg. 117

U.S. Coast Guard Base

San Juan PR 00902-2029

Landholding Agency: Coast Guard

Property Number: 87199510002

Status: Unutilized

Reason: Secured Area

Bldg. 118

U.S. Coast Guard Base

San Juan PR 00902-2029

Landholding Agency: Coast Guard

Property Number: 87199510003

Status: Unutilized

Reason: Secured Area

Bldg. 119

U.S. Coast Guard Base

San Juan PR 00902-2029

Landholding Agency: Coast Guard

Property Number: 87199510004

Status: Unutilized

Reason: Secured Area

Bldg. 120

U.S. Coast Guard Base

San Juan PR 00902-2029

Landholding Agency: Coast Guard

Property Number: 87199510005

Status: Unutilized

Reason: Secured Area

Bldg. 122

U.S. Coast Guard Base

San Juan PR 00902-2029

Landholding Agency: Coast Guard

Property Number: 87199510006

Status: Unutilized

Reason: Secured Area

Bldg. 128

U.S. Coast Guard Base

San Juan PR 00902-2029

Landholding Agency: Coast Guard

Property Number: 87199510007

Status: Unutilized

Reason: Secured Area

Bldg. 129

U.S. Coast Guard Base

San Juan PR 00902-2029

Landholding Agency: Coast Guard

Property Number: 87199510008

Status: Unutilized

Reason: Secured Area

Rhode Island

Facility 16

Quonset State Airport

N. Kingstown RI 02852-7545

Landholding Agency: Air Force

Property Number: 18200240009

Status: Unutilized

Reason: Within 2000 ft. of flammable or explosive material

Station Point Judith Pier

Narranganset Co: Washington RI 02882-

Landholding Agency: Coast Guard

Property Number: 87199310002

Status: Unutilized

Reason: Extensive deterioration

Tennessee

22 Bldgs.

Volunteer Army Ammunition Plant

Warehouses (Southern Portion)

Chattanooga Co: Hamilton TN 37421-

Landholding Agency: GSA

Property Number: 54199930016

Status: Surplus

Reason: Within 2000 ft. of flammable or explosive material

GSA Number: 4-D-TN-594F

17 Bldgs.

Volunteer Army Ammunition Plant

Acid Production

Chattanooga Co: Hamilton TN 37421-

Landholding Agency: GSA

Property Number: 54199930017

Status: Surplus

Reason: Within 2000 ft. of flammable or explosive material contamination

GSA Number: 4-D-TN-594F

41 Facilities

Volunteer Army Ammunition Plant

TNT Production

Chattanooga Co: Hamilton TN 37421-

Landholding Agency: GSA

Property Number: 54199930018

Status: Surplus

Reason: contamination

GSA Number: 4-D-TN-594F

5 Facilities

Volunteer Army Ammunition Plant

Waste Water Treatment

Chattanooga Co: Hamilton TN 37421-

Landholding Agency: GSA

Property Number: 54199930019

Status: Surplus

Reason: Extensive deterioration

GSA Number: 4-D-TN-594F

6 Bldgs.

Volunteer Army Ammunition Plant

Offices (Southern Portion)

Chattanooga Co: Hamilton TN 37421-

Landholding Agency: GSA

Property Number: 54199930023

Status: Surplus

Reason: Within 2000 ft. of flammable or explosive material

GSA Number: 4-D-TN-594F

Clinton Property

Stones River National Battlefield

Murfreesboro Co: Rutherford TN 37129-

Landholding Agency: Interior

Property Number: 61200330012

Status: Excess

Reason: Extensive deterioration

Smith Property

Stones River National Battlefield

Murfreesboro Co: Rutherford TN 37129-

Landholding Agency: Interior

Property Number: 61200330013

Status: Excess

Reason: Extensive deterioration

Texas

6 Bldgs.

Ellington Field

1277, 1381, 1385, 1386, 1388, 1249

Houston Co: Harris TX 77034-5586

Landholding Agency: Air Force

Property Number: 18200240010

Status: Excess

Reason: Extensive deterioration

Bldg. 1307

Hensley Field ANG Station

Dallas TX 75211-9820

Landholding Agency: Air Force

Property Number: 18200330030

Status: Excess

Reason: Extensive deterioration

Border Patrol Station

E. Hwy 83

Rio Grande Co: Starr TX 75247-4607

Landholding Agency: GSA

Property Number: 54200410012

Status: Surplus

Reason: Within 2000 ft. of flammable or explosive material

GSA Number: 7-J-TX-1079

House #1, Tract 105-70

San Antonio Missions

San Antonio Co: Bexar TX 78214-

Landholding Agency: Interior

Property Number: 61200330032

Status: Unutilized

Reason: Extensive deterioration

House #2, Tract 105-70

San Antonio Missions

San Antonio Co: Bexar TX 78214-

Landholding Agency: Interior

Property Number: 61200330033

Status: Unutilized

Reason: Extensive deterioration

House #3, Tract 105-70

San Antonio Missions

San Antonio Co: Bexar TX 78214-

Landholding Agency: Interior

Property Number: 61200330034

Status: Unutilized

Reason: Extensive deterioration

House #4, Tract 105-70

San Antonio Missions

San Antonio Co: Bexar TX 78214-

Landholding Agency: Interior

Property Number: 61200330035

Status: Unutilized

Reason: Extensive deterioration

House #7, Tract 105-70

San Antonio Missions

San Antonio Co: Bexar TX 78214-

Landholding Agency: Interior

Property Number: 61200330036

Status: Unutilized

Reason: Extensive deterioration

Old Exchange Bldg.

U.S. Coast Guard

Galveston Co: Galveston TX 77553-3001

Landholding Agency: Coast Guard

Property Number: 87199310012

Status: Unutilized

Reason: Secured Area

WPB Building

Station Port Isabel, Coast Guard Station

South Padre Island Co: Cameron TX 78597-6497

Landholding Agency: Coast Guard

Property Number: 87199530002

Status: Unutilized

Reason: Floodway

Aton Shops Building

USCG Station Sabine

Sabine Co: Jefferson TX 77655-

Landholding Agency: Coast Guard

Property Number: 87199530003

Status: Unutilized

Reasons: Within 2000 ft. of flammable or explosive material; Secured Area

WPB Storage Shed

USCG Station Sabine

Sabine Co: Jefferson TX 77655-

Landholding Agency: Coast Guard

Property Number: 87199530004

Status: Unutilized

Reasons: Within 2000 ft. of flammable or explosive material; Secured Area

Flammable Storage Building

USCG Station Sabine

Sabine Co: Jefferson TX 77655-

Landholding Agency: Coast Guard

Property Number: 87199530005

Status: Unutilized

Reasons: Within 2000 ft. of flammable or explosive material; Secured Area

Battery Storage Building

USCG Station Sabine

Sabine Co: Jefferson TX 77655-

Landholding Agency: Coast Guard

Property Number: 87199530006

Status: Unutilized

Reasons: Within 2000 ft. of flammable or explosive material; Secured Area

Boat House

USCG Station Sabine

Sabine Co: Jefferson TX 77655-

Landholding Agency: Coast Guard

Property Number: 87199530007

Status: Unutilized

Reasons: Within 2000 ft. of flammable or explosive material; Secured Area

Small Boat Pier

USCG Station Sabine

Sabine Co: Jefferson TX 77655-

Landholding Agency: Coast Guard

Property Number: 87199530008

Status: Unutilized

Reasons: Within 2000 ft. of flammable or explosive material; Secured Area

Bldg. 108

Fort Crockett/43rd St. Housing

Galveston Co: Galveston TX 77553-

Landholding Agency: Coast Guard

Property Number: 87199630008

Status: Unutilized

Reason: Extensive deterioration

Vermont

Depot Street

Downtown at the Waterfront

Burlington Co: Chittenden VT 05401-5226

Landholding Agency: Coast Guard

Property Number: 87199220003

Status: Excess

Reason: Floodway

Virginia

Bldg. 417

Camp Pendleton

Virginia Beach VA 23451-

Landholding Agency: Air Force

Property Number: 18200240011

Status: Excess

Reasons: Secured Area; Extensive deterioration

Bayview Tower

Langley AFB

Langley AFB VA 23665-

Landholding Agency: Air Force

Property Number: 18200240012

Status: Unutilized

Reason: Floodway

Bldg. 943/Storage Units

Langley AFB

Langley AFB VA 23665-

Landholding Agency: Air Force

Property Number: 18200410006

Status: Unutilized

Reason: Secured Area

Church Street Quarters (204)

Colonial National Park

Yorktown Co: York VA 23690-

Landholding Agency: Interior

Property Number: 61200330008

Status: Excess

Reason: Extensive deterioration

Church Street Quarters (205)

Colonial National Park

Yorktown Co: York VA 23690-

Landholding Agency: Interior

Property Number: 61200330009

Status: Excess

Reason: Extensive deterioration

Nelson Property

Colonial National Park

Yorktown Co: York VA 23690-

Landholding Agency: Interior

Property Number: 61200330010

Status: Excess

Reason: Extensive deterioration

Ferris Property

Yorktown VA 23690-

Landholding Agency: Interior

Property Number: 61200330023

Status: Excess

Reason: Extensive deterioration

Bldg. 052 & Tennis Court

USCG Reserve Training Center

Yorktown Co: York VA 23690-

Landholding Agency: Coast Guard

Property Number: 87199230004

Status: Excess

Reason: Secured Area

Admin. Bldg.

Coast Guard, Group Eastern Shores

Chincoteague Co: Accomack VA 23361-

Landholding Agency: Coast Guard

Property Number: 87199240014

Status: Unutilized

Reason: Secured Area

Little Creek Station

Navamphib Base, West Annex, U.S. Coast Guard

Norfolk Co: Princess Anne VA 23520-

Landholding Agency: Coast Guard

Property Number: 87199310004

Status: Unutilized

Reason: Secured Area

Operations Bldg.

U.S. Coast Guard Group Hampton Roads

Portsmouth VA 23703-

Landholding Agency: Coast Guard

Property Number: 87199710003

Status: Unutilized

Reason: Secured Area

Bldgs. 63, 115

USCG Training Center

Yorktown Co: York VA 23690-5000

Landholding Agency: Coast Guard

Property Number: 87200110037

Status: Unutilized

Reasons: Within 2000 ft. of flammable or explosive material; Secured Area; Extensive deterioration

Bldg. 156

USCG Training Center Yorktown

Yorktown Co: York VA 23690-5000

Landholding Agency: Coast Guard

Property Number: 87200120015

Status: Underutilized

Reasons: Within 2000 ft. of flammable or explosive material; Secured Area;

Bldg. 002

USCG Eastern Shore

Chincoteague Co: Accomak VA 23336-

Landholding Agency: Coast Guard

Property Number: 87200220007

Status: Excess

Reason: Secured Area

Bldg. CG-2 (0S01)

USCG CAMSLANT

Chesapeake VA

Landholding Agency: Coast Guard

Property Number: 88200330003

Status: Unutilized

Reason: Secured Area

Bldg. CG-6 (0S02)

USCG CAMSLANT

Chesapeake VA

Landholding Agency: Coast Guard

Property Number: 88200330004

Status: Unutilized

Reason: Secured Area

Bldg. (0V02)

USCG CAMSLANT

Chesapeake VA

Landholding Agency: Coast Guard

Property Number: 88200330005

Status: Unutilized

Reasons: Secured Area; Extensive deterioration

Bldg. (0V03)

USCG CAMSLANT

Chesapeake VA

Landholding Agency: Coast Guard

Property Number: 88200330006

Status: Unutilized

Reasons: Secured Area; Extensive deterioration

Storage Bldg. OV2

USCG, Naval Amphibious Base

Little Creek Co: Princess Ann VA

Landholding Agency: Coast Guard

Property Number: 88200420004

Status: Excess

Reason: Secured Area

Washington

Barn

Heart K Ranch

Near Thorp Co: Kittitas WA 98946-

Landholding Agency: Interior

Property Number: 61200330014

Status: Unutilized

Reason: Extensive deterioration

Garage/Shop

Heart K Ranch

Near Thorp Co: Kittitas WA 98946-

Landholding Agency: Interior

Property Number: 61200330015

Status: Unutilized

Reason: Extensive deterioration

1-Stall Garage

Heart K Ranch

Near Thorp Co: Kittitas WA 98946-

Landholding Agency: Interior

Property Number: 61200330016

Status: Unutilized

Reason: Extensive deterioration

Residence

Heart K Ranch

Near Thorp Co: Kittitas WA 98946-

Landholding Agency: Interior

Property Number: 61200330017

Status: Unutilized

Reason: Extensive deterioration

Storage

Heart K Ranch

Near Thorp Co: Kittitas WA 98946-

Landholding Agency: Interior

Property Number: 61200330018

Status: Unutilized

Reason: Extensive deterioration

Residence No. 50

1807 Rest Haven Road

Yakima WA 98901-

Landholding Agency: Interior

Property Number: 61200330019

Status: Unutilized

Reason: Extensive deterioration

Cow Barn

1807 Rest Haven Road

Yakima WA 98901-

Landholding Agency: Interior

Property Number: 61200330020

Status: Unutilized

Reason: Extensive deterioration

Chicken Coop

1807 Rest Haven Road

Yakima WA 98901-

Landholding Agency: Interior

Property Number: 61200330021

Status: Unutilized

Reason: Extensive deterioration

Garage/No. 804

Columbia Basin

George Co: Grant WA 98848-

Landholding Agency: Interior

Property Number: 61200330024

Status: Unutilized

Reason: Extensive deterioration

Residence No. 804

Columbia Basin

George Co: Grant WA 98848-

Landholding Agency: Interior

Property Number: 61200330025

Status: Unutilized

Reason: Extensive deterioration

Garage/No. 801

Columbia Basin

George Co: Grant WA 98848-

Landholding Agency: Interior

Property Number: 61200330026

Status: Unutilized

Reason: Extensive deterioration

Residence No. 801

Columbia Basin

George Co: Grant WA 98848-

Landholding Agency: Interior

Property Number: 61200330027

Status: Unutilized

Reason: Extensive deterioration

Garage/No. 305

Columbia Basin

Soap Lake Co: Grant WA 98851-

Landholding Agency: Interior

Property Number: 61200330028

Status: Unutilized

Reason: Extensive deterioration

Residence No. 305

Columbia Basin

Soap Lake Co: Grant WA 98851-

Landholding: Interior

Property Number: 61200330029

Status: Unutilized

Reason: Extensive deterioration

Garage/Residence No. 304

Columbia Basin

Soap Lake Co: Grant WA 98851-

Landholding Agency: Interior

Property Number: 61200330030

Status: Unutilized

Reason: Extensive deterioration

Residence No. 304

Columbia Basin

Soap Lake Co: Grant WA 98851-

Landholding Agency: Interior

Property Number: 61200330031

Status: Unutilized

Reason: Extensive deterioration

Bldg. 81

39307 Kelly Road

Benton City Co: Benton WA 99320-

Landholding Agency: Interior

Property Number: 61200340001

Status: Unutilized

Reason: Extensive deterioration

Garage/81

39307 Kelly Road

Benton City Co: Benton WA 99320-

Landholding Agency: Interior

Property Number: 61200340002

Status: Unutilized

Reason: Extensive deterioration

Bldg. 73

1171 Beane Road

Moxee Co: Yakima WA 98936-

Landholding Agency: Interior

Property Number: 61200340003

Status: Unutilized

Reason: Extensive deterioration

Garage/73

1171 Beane Road

Moxee Co: Yakima WA 98936-

Landholding Agency: Interior

Property Number: 61200340004

Status: Unutilized

Reason: Extensive deterioration

Bldg. 129

1917 Marsh Road

Yakima WA 98901-

Landholding Agency: Interior

Property Number: 61200340005

Status: Unutilized

Reason: Extensive deterioration

West Virginia

Radio Transmitter Rcv Site

Greenbrier Street

Charleston WV 25311-

Landholding Agency: GSA

Property Number: 54200340011

Status: Excess

Reason: Within 2000 ft. of flammable or explosive material GSA Number: 4-U-WV-0547

Wisconsin

Rawley Point Light

Two Rivers Co: Manitowoc WI

Landholding Agency: Coast Guard

Property Number: 87199540004

Status: Unutilized

Reasons: Secured Area; Extensive deterioration

Wyoming

Bldg. 360

F. E. Warren AFB

Cheyenne Co: Laramie WY 82005-5000

Landholding Agency: Air Force

Property Number: 18200240013

Status: Unutilized

Reasons: Secured Area; Extensive deterioration

Land (by State)

Alabama

Stockpile Storage Site

Hamilton Blvd.

Republished

Theodore AL 36582-

Landholding Agency: GSA

Property Number: 54200420003

Status: Excess

Reason: Within 2000 ft. of flammable or explosive material

GSA Number: 4-G-AL-0772

Arizona

Pump House Buffer Zone

S. Ave. A

Yuma AZ 85365-

Landholding Agency: GSA

Property Number: 54200410002

Status: Surplus

Reason: Within airport runway clear zone

GSA Number: 9-I-AZ-04252

Colorado

Landfill

48th & Holly Streets

Commerce Co: Adams CO 80022-

Landholding Agency: GSA

Property Number: 54200220006

Status: Surplus

Reasons: Within 2000 ft. of flammable or explosive material; Contamination

GSA Number: 7-Z-CO-0647

Florida

3 parcels

U.S. Customs Svc Natl Law

Enforcement Comm Ctr

Orlando Co: Orange FL 32803-

Landholding Agency: GSA

Property Number: 54200310015

Status: Excess

Reason: Landlocked

GSA Number: 4-T-FL-1209-1A

Navy Site Alpha

Homestead Co: Miami/Dade FL

Landholding Agency: GSA

Property Number: 54200330009

Status: Surplus

Reason: Flooding

GSA Number: 4-N-FL-1079

Land—approx. 220 acres

Cape San Blas

Port St. Joe Co: Gulf FL

Landholding Agency: Coast Guard

Property Number: 87199440018

Status: Underutilized

Reasons: Floodway; Secured Area

Michigan

Port/EPA Large Lakes Rsch Lab

Grosse Ile Twp Co: Wayne MI

Landholding Agency: GSA

Property Number: 54199720022

Status: Excess

Reason: Within airport runway clear zone

GSA Number: 1-Z-MI-554-A

Land/USCG

1380 Beach Street

Muskegon MI 49441-

Landholding Agency: GSA

Property Number: 54200320014

Status: Excess

Reason: Within 2000 ft. of flammable or explosive material

GSA Number: 1-U-MI-0610

Middle Marker Facility

Yipsilanti Co: Washtenaw MI 48198-

Location: 549 ft. north of intersection of Coolidge and Bradley Ave. on East side of street

Landholding Agency: Coast Guard

Property Number: 87199120006

Status: Unutilized

Reason: Within airport runway clear zone

Minnesota

Parcel A

Twin Cities Army Ammunition Plant

Arden Hills MN 55112-3938

Landholding Agency: GSA

Property Number: 54200240014

Status: Excess

Reason: Within 2000 ft. of flammable or explosive material

GSA Number: 1-D-MN-0578A

Missouri

12 Missile Launch Facilities

Whiteman AFB MO

Landholding Agency: GSA

Property Number: 54200410005

Status: Surplus

Reason: Subsurface disturbance not allowed

GSA Number: 7DCO06570669

New Jersey

Maurice River Land

Commercial Twnsp Co: Cumberland NJ 08349-

Landholding Agency: GSA

Property Number: 54200420011

Status: Excess

Reason: Not accessible by road

GSA Number: 1-U-NJ-647-1

North Carolina

Sites A, B, C, D, E

Marine Corps Base

Camp Lejeune Co: NC

Landholding Agency: Navy

Property Number: 77200430053

Status: Underutilized

Reason: Secured Area

Ohio

Lewis Research Center

Cedar Point Road

Cleveland Co: Cuyahoga OH 44135-

Landholding Agency: GSA

Property Number: 54199610007

Status: Excess

Reasons: Within 2000 ft. of flammable or explosive material; Within airport runway clear zone

GSA Number: 2-Z-OH-598-I

Manhattan Rear Range Light

Toledo Co: Lucas OH 43611-

Landholding Agency: GSA

Property Number: 54200420012

Status: Excess

Reason: Landlocked

GSA Number: 1-U-OH-822-1

Puerto Rico

Parcel 2R

Naval Security Group

Sabana Seca Co: Toa Baja PR

Landholding Agency: GSA

Property Number: 54200210025

Status: Excess

Reason: Within 2000 ft. of flammable or explosive material

GSA Number: 1-N-PR-494

Virginia

275.390 acres

adjacent/Ft. Lee Military Rsv.

Petersburg Co: Prince George VA

Landholding Agency: GSA

Property Number: 54200430017

Status: Surplus

Reason: Secured Area

GSA Number: 4-GR-VA-545E

Washington

Richland Commercial Land

Mansfield St/Northgate Dr

Richland Co: WA

Landholding Agency: GSA

Property Number: 54200430018

Status: Excess

Reason: Within 2000 ft. of flammable or explosive material

GSA Number: 9-B-WA-1124/GA

Wisconsin

Land

Badger Army Ammunition Plant

Baraboo Co: Sauk WI 53913-

Location: Vacant land within plant boundaries.

Landholding Agency: GSA

Property Number: 21199013783

Status: Excess

Reason: Secured Area

GSA Number: GSA-WI

[FR Doc. E4-2283 Filed 9-23-04; 8:45 am]

BILLING CODE 4210-29-P